DEPARTMENT OF HOUSING AND URBAN DEVELOPMENT

[Docket No. FR-5045-N-06]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, room 7262, Department of Housing and Urban Development, 451 Seventh Street, SW., Washington, DC 20410; telephone (202) 708-1234; TDD number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD reviewed in 2005 for suitability for use to assist the homeless. The properties were reviewed using information provided to HUD by Federal landholding agencies regarding unutilized and underutilized buildings and real property controlled by such agencies or by GSA regarding its inventory of excess or surplus Federal property.

In accordance with 24 CFR part 581.3(b) landholding agencies are required to notify HUD by December 31, 2005, the current availability status and classification of each property controlled by the Agencies that were published by HUD as suitable and available which remain available for application for use by the homeless.

Pursuant to 24 CFR part 581.8 (d) and (e) HUD is required to publish a list of those properties reported by the Agencies and a list of suitable/unavailable properties including the reasons why they are not available.

Properties listed as suitable/available will be available exclusively for homeless use for a period of 60 days from the date of this Notice. Where property is described as for “off-site use only” recipients of the property will be required to relocate the building to their own site at their own expense. Homeless assistance providers interested in any such property should send a written expression of interest to HHS, addressed to John Hicks, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For more information regarding particular properties identified in this Notice (i.e., acreage, floor plan, existing sanitary facilities, exact street address), providers should contact the appropriate landholding agencies at the following addresses: U.S. Army: Audrey C. Ormerod, Headquarters, Department of the Army, Office of the Assistant Chief of Staff for Installation Management, Attn: DAIM-MD, Room 1E677, 600 Army Pentagon, Washington, DC 20310-0600; (703) 692-9223; Corps of Engineers: Shirley Middleswarth, Army Corps of Engineers, Civil Division, Directorate of Real Estate, 441 G Street, Washington, DC 20314-1000; (202) 761-7425; U.S. Navy: Warren Meekins, Dept. of Navy, Real Estate Services, Naval Facilities Engineering Command, Washington Navy Yard, 1322 Patterson Ave., SE., Suite 1000, Washington, DC 20374-5065; (202) 685-9305; U.S. Air Force: Kathryn M. Halvorson, Air Force Real Property Agency, 1700 North Moore St., Suite 2300, Arlington, VA 22209-2802; (703) 696-5501; GSA: John Kelly, Office of Property Disposal, GSA, 18th and F Streets, NW., Washington, DC 20405; (202) 501-0084; Dept. of Veterans Affairs: Amelia McLellan, Real Property Service, Dept. of Veterans Affairs, room 419, 810 Vermont Ave., NW., Washington, DC 20420; (202) 565-5398; Dept. of Energy: Andy Duran, Office of Engineering & Construction Management, ME-90, Washington, DC 20585; (202) 586-4548; Dept. of Agriculture: Marsha Pruitt, Reporters Building, 300 7th St., SW., Rm. 310B, Washington, DC 20250; (202) 720-4335; Dept. of the Interior: Linda Tribby, Acquisition & Property Management, Dept. of the Interior, 1849 C St., NW., MS 5512, Washington, DC 20240; (202) 219-0728; (These are not toll-free numbers).

Dated: February 2, 2006.
Mark R. Johnston,
Acting Deputy Assistant, Secretary for Special Needs.

Title V Properties Reported in Year 2005 Which Are Suitable and Available

Agriculture

California

Building

4 Bldgs.

Work Center

13280 Paskenta Road

Paskenta Co: CA 96074-

Property No.: 15200510001

Status: Unutilized

Comment: Ranger residence, residence, barrack, storage, possible asbestos/presence of lead paint, need rehab

Air Force

Alaska

Building

Bldg. 7525

Elmendorf AFB

Elmendorf AFB AK 99506-

Property No.: 18200230009

Status: Unutilized

Comment: 26,226 sq. ft., need rehab, possible asbestos/lead paint, most recent use—dormitory, off-site use only

Hawaii

Building

Bldg. 849

Bellows AFS

Bellows AFS HI

Property No.: 18200330008

Status: Unutilized

Comment: 462 sq. ft., concrete storage facility

Missouri

Building

Bldgs. 90A/B, 91A/B, 92A/B

Jefferson Barracks Housing

St. Louis MO 63125-

Property No.: 18200220002

Status: Excess

Comment: 6450 sq. ft., needs repair, includes 2 acres

New York

Building

Bldg. 240

Rome Lab

Rome Co: Oneida NY 13441-

Property No.: 18200340023

Status: Unutilized

Comment: 39108 sq. ft., presence of asbestos, most recent use—Electronic Research Lab

Bldg. 247

Rome Lab

Rome Co: Oneida NY 13441-

Property No.: 18200340024

Status: Unutilized

Comment: 13199 sq. ft., presence of asbestos, most recent use—Electronic Research Lab

Bldg. 248

Rome Lab

Rome Co: Oneida NY 13441-

Property No.: 18200340025

Status: Unutilized

Comment: 4000 sq. ft., presence of asbestos, most recent use—Electronic Research Lab

Bldg. 302

Rome Lab

Rome Co: Oneida NY 13441-

Property No.: 18200340026

Status: Unutilized

Comment: 10288 sq. ft., presence of asbestos, most recent use—communications facility

South Carolina

Building

24 Bldgs.

Hunley Park/Charleston AFB

Idaho Ave., Unit Type 3S

N. Charleston Co: SC 29404-4827

Property No.: 18200430011

Status: Excess

Comment: 1624 sq. ft., needs extensive repair, presence of asbestos/lead paint, most recent use—residential, off-site use only

6 Bldgs.

Hunley Park/Charleston AFB

N. Charleston Co: SC 29404-

Property No.: 18200430012

Location: 3510, 3514, 3517, 3528, 3533, 3538

Status: Excess

Comment: 1684 sq. ft., needs extensive repair, presence of asbestos/lead paint, most recent use—residential, off-site use only

Bldg. 3601

Hunley Park/Charleston AFB

N. Charleston Co: SC 29404-

Property No.: 18200430013

Status: Excess

Comment: 1902 sq. ft., needs extensive repair, presence of asbestos/lead paint, most recent use—residential, off-site use only

5 Bldgs.

Hunley Park/Charleston AFB

N. Charleston Co: SC 29404-

Property No.: 18200430014

Location: 3524, 3603, 3605, 3607, 3608

Status: Excess

Comment: 1788 sq. ft., needs extensive repair, presence of asbestos/lead paint, most recent use—residential, off-site use only

5 Bldgs.

Hunley Park/Charleston AFB

Unit Type 4J

N. Charleston Co: SC 29404-

Property No.: 18200430022

Status: Excess

Comment: 3423 sq. ft., needs extensive repair, presence of asbestos/lead paint, most recent use—residential, off-site use only

7 Bldgs.

Charleston AFB

Floor Plan 1

N. Charleston Co: SC 29404-4827

Property No.: 18200430023

Status: Excess

Comment: 2135 sq. ft., presence of asbestos/lead paint, most recent use—residential, off-site use only

11 Bldgs.

Charleston AFB

Floor Plan 4AR

N. Charleston Co: SC 29404-

Property No.: 18200430024

Status: Excess

Comment: 2652 sq. ft., presence of asbestos/lead paint, most recent use—residential, off-site use only

4 Bldgs.

Charleston AFB

N. Charleston Co: SC 29404-

Property No.: 18200430025

Location: 2314A/B, 2327A/B, 2339A/B, 2397A/B

Status: Excess

Comment: 2722 sq. ft., presence of asbestos/lead paint, most recent use—residential, off-site use only

5 Bldgs.

Charleston AFB

N. Charleston Co: SC 29404-

Property No.: 18200430026

Location: 2311A/B, 2322A/B, 2329A/B, 2385A/B, 2399A/B

Status: Excess

Comment: 2642 sq. ft., presence of asbestos/lead paint, most recent use—residential, off-site use only

4 Bldgs.

Charleston AFB

N. Charleston Co: SC 29404-

Property No.: 18200430027

Location: 2315A/B, 2323A/B, 2330A/B, 2387A/B

Status: Excess

Comment: 2756 sq. ft., presence of asbestos/lead paint, most recent use—residential, off-site use only

3 Bldgs.

Charleston AFB

N. Charleston Co: SC 29404-

Property No.: 18200430028

Location: 2321A/B, 2326A/B, 2336A/B

Status: Excess

Comment: 2766 sq. ft., presence of asbestos/lead paint, most recent use—residential, off-site use only

Bldg. 2331A/B

Charleston AFB

N. Charleston Co: SC 29494-

Property No.: 18200430029

Status: Excess

Comment: 2803 sq. ft., presence of asbestos/lead paint, most recent use—residential, off-site use only

Bldg. 2341A/B

Charleston AFB

N. Charleston Co: SC 29404-

Property No.: 18200430030

Status: Excess

Comment: 2715 sq. ft., presence of asbestos/lead paint, most recent use—residential, off-site use only

6 Bldgs.

Charleston AFB

N. Charleston Co: SC 29404-

Property No.: 18200430031

Location: 2346, 2354, 2363, 2382, 2389, 2396

Status: Excess

Comment: 1394 sq. ft., presence of asbestos/lead paint, most recent use—residential, off-site use only

15 Bldgs.

Charleston AFB

Floor Plan 6A

N. Charleston Co: SC 29404-

Property No.: 18200430032

Status: Excess

Comment: 1378 sq. ft., presence of asbestos/lead paint, most recent use—residential, off-site use only

12 Bldgs.

Charleston AFB

Floor Plan 6B

N. Charleston Co: SC 29404-

Property No.: 18200430033

Status: Excess

Comment: 1387 sq. ft., presence of asbestos/lead paint, most recent use—residential, off-site use only

13 Bldgs.

Charleston AFB

Floor Plan 1-1

N. Charleston Co: SC 29404-

Property No.: 18200430034

Status: Excess

Comment: 2305 sq. ft., presence of asbestos/lead paint, most recent use—residential, off-site use only

Bldg. 2377

Charleston AFB

N. Charleston Co: SC 29404-

Property No.: 18200430035

Status: Excess

Comment: 1662 sq. ft., presence of asbestos/lead paint, most recent use—residential, off-site use only

10 Bldgs.

Charleston AFB

Floor Plan D6

N. Charleston Co: SC 29204-

Property No.: 18200430036

Status: Excess

Comment: 1241 sq. ft., presence of asbestos/lead paint, most recent use—residential, off-site use only

7 Bldgs.

Charleston AFB

Floor Plan DIV

N. Charleston Co: SC 29404-

Property No.: 18200430038

Status: Excess

Comment: 1250 sq. ft., presence of asbestos/lead paint, most recent use—residential, off-site use only

7 Bldgs.

Charleston AFB

Floor Plan E6

N. Charleston Co: SC 29204-

Property No.: 18200430040

Status: Excess

Comment: 1249 sq. ft., presence of asbestos/lead paint, most recent use—residential, off-site use only

11 Bldgs.

Charleston AFB

Floor Plan F6

N. Charleston Co: SC 29404-

Property No.: 18200430041

Status: Excess

Comment: 1249 sq. ft., presence of asbestos/lead paint, most recent use—residential, off-site use only

11 Bldgs.

Charleston AFB

Floor Plan G6

N. Charleston Co: SC 29404-

Property No.: 18200430042

Status: Excess

Comment: 1390 sq. ft., presence of asbestos/lead paint, most recent use—residential, off-site use only

9 Bldgs.

Charleston AFB

Floor Plan GV

N. Charleston Co: SC 29404-

Property No.: 18200430043

Status: Excess

Comment: 1390 sq. ft., presence of asbestos/lead paint, most recent use—residential, off-site use only

8 Bldgs.

Charleston AFB

Floor Plan H6

N. Charleston Co: SC 29404-

Property No.: 18200430044

Status: Excess

Comment: 1396 sq. ft., presence of asbestos/lead paint, most recent use—residential, off-site use only

Bldgs. 1841A/B, 1849A/B

Charleston AFB

N. Charleston Co: SC 29404-

Property No.: 18200430045

Status: Excess

Comment: 2249 sq. ft., presence of asbestos/lead paint, most recent use—residential, off-site use only

9 Bldgs.

Charleston AFB

Floor Plan I6

N. Charleston Co: SC 29404-

Property No.: 18200430046

Status: Excess

Comment: 1400 sq. ft., presence of asbestos/lead paint, most recent use—residential, off-site use only

7 Bldgs.

Charleston AFB

Floor Plan IV

N. Charleston Co: SC 29404-

Property No.: 18200430047

Status: Excess

Comment: 1400 sq. ft., presence of asbestos/lead paint, most recent use—residential, off-site use only

4 Bldgs.

Charleston AFB

N. Charleston Co: SC 29404-

Property No.: 18200430048

Location: 1846A/B, 1853A/B, 1862A/B, 2203A/B

Status: Excess

Comment: 2363 sq. ft., presence of asbestos/lead paint, most recent use—residential, off-site use only

40 Bldgs.

Charleston AFB

Floor Plan 2A

N. Charleston Co: SC 29404-

Property No.: 18200430049

Status: Excess

Comment: 2387 sq. ft., presence of asbestos/lead paint, most recent use—residential, off-site use only

Bldg. 1765A/B

Charleston AFB

N. Charleston Co: SC 29404-

Property No.: 18200430050

Status: Excess

Comment: 2558 sq. ft., presence of asbestos/lead paint, most recent use—residential, off-site use only

42 Bldgs.

Charleston AFB

Floor Plan 2R

N. Charleston Co: SC 29404-

Property No.: 18200430051

Status: Excess

Comment: 2558 sq. ft., presence of asbestos/lead paint, most recent use—residential, off-site use only

Bldg. 1828A/B

Charleston AFB

N. Charleston Co: SC 29404-

Property No.: 18200430052

Status: Excess

Comment: 2330 sq. ft., presence of asbestos/lead paint, most recent use—residential, off-site use only

3 Bldgs.

Charleston AFB

N. Charleston Co: SC 29404-

Property No.: 18200430053

Location: 2309A/B, 2320A/B, 2335A/B

Status: Excess

Comment: 2766 sq. ft., presence of asbestos/lead paint, most recent use—residential, off-site use only

South Dakota

Land

S. Nike Ed. Annex Land

Ellsworth AFB

Pennington SD 57706-

Property No.: 18200220010

Status: Unutilized

Comment: 7 acres w/five foundations from demolished bldgs. remain on site; with a road and a parking lot

Army

Alaska

Building

Armory

NG Noorvik

Noorvik AK 99763-

Property No.: 21200110075

Status: Unutilized

Comment: 1200 sq. ft., most recent use—armory, off-site use only

Bldg. 00001

Kiana Natl Guard Armory

Kiana AK 99749-

Property No.: 21200340075

Status: Excess

Comment: 1200 sq. ft., butler bldg., needs repair, off-site use only

Bldg. 00001

Wainwright Armory

Wainwright Co: AK 99782-

Property No.: 21200510055

Status: Excess

Comment: 1200 sq. ft., presence of asbestos, most recent use—storage

Arizona

Building

Bldg. 30012, Fort Huachuca

Sierra Vista Co: Cochise AZ 85635-

Property No.: 21199310298

Status: Excess

Comment: 237 sq. ft., 1-story block, most recent use—storage

Bldg. S-306

Yuma Proving Ground

Yuma Co: Yuma/La Paz AZ 85365-9104

Property No.: 21199420346

Status: Unutilized

Comment: 4103 sq. ft., 2-story, needs major rehab, off-site use only

Bldg. 503, Yuma Proving Ground

Yuma Co: Yuma AZ 85365-9104

Property No.: 21199520073

Status: Underutilized

Comment: 3789 sq. ft., 2-story, major structural changes required to meet floor loading & fire code requirements, presence of asbestos, off-site use only

Bldg. 43002

Fort Huachuca

Cochise Co: AZ 85613-7010

Property No.: 21200440066

Status: Excess

Comment: 23,152 sq. ft., presence of asbestos/lead paint, most recent use—dining, off-site use only

Bldg. 66150

Fort Huachuca

Cochise Co: AZ 85613-

Property No.: 21200540079

Status: Excess

Comment: 4027 sq. ft., most recent use—storage, off-site use only

Bldg. 90335

Fort Huachuca

Cochise Co: AZ 85613-

Property No.: 21200540080

Status: Excess

Comment: 456 sq. ft., most recent use—storage, off-site use only

Bldg. 90336

Fort Huachuca

Cochise Co: AZ 85613-

Property No.: 21200540081

Status: Excess

Comment: 8339 sq. ft., most recent use—storage, off-site use only

California

Building

Bldgs. 18026, 18028

Camp Roberts

Monterey CA 93451-5000

Property No.: 21200130081

Status: Excess

Comment: 2024 sq. ft. & 487 sq. ft., concrete, poor condition, off-site use only

Colorado

Building

Bldg. T-108

Fort Carson

Ft. Carson Co: El Paso CO 80913-

Property No.: 21200130083

Status: Unutilized

Comment: 9000 sq. ft., poor condition, possible asbestos/lead paint, most recent use—storage, off-site use only

Bldg. T-209

Fort Carson

Ft. Carson Co: El Paso CO 80913-

Property No.: 21200130084

Status: Unutilized

Comment: 400 sq. ft., poor condition, possible asbestos/lead paint, most recent use—maint. shop, off-site use only

Bldg. T-217

Fort Carson

Ft. Carson Co: El Paso CO 80913-

Property No.: 21200130085

Status: Unutilized

Comment: 9000 sq. ft., poor condition, possible asbestos/lead paint, most recent use—maint., off-site use only

Bldg. T-218

Fort Carson

Ft. Carson Co: El Paso CO 80913-

Property No.: 21200130086

Status: Unutilized

Comment: 9000 sq. ft., poor condition, possible asbestos/lead paint, most recent use—maint., off-site use only

Bldg. T-220

Fort Carson

Ft. Carson Co: El Paso CO 80913-

Property No.: 21200130087

Status: Unutilized

Comment: 690 sq. ft., poor condition, possible asbestos/lead paint, most recent use—heat plant, off-site use only

Bldg. T-6001

Fort Carson

Ft. Carson Co: El Paso CO 80913-

Property No.: 21200130088

Status: Unutilized

Comment: 4372 sq. ft., poor condition, possible asbestos/lead paint, most recent use—vet clinic, off-site use only

Bldg. S6263

Fort Carson

Ft. Carson Co: El Paso CO 80913-

Property No.: 21200310051

Status: Unutilized

Comment: 24,902 sq. ft., needs repair, presence of asbestos/lead paint, most recent use—offices, off-site use only

Bldg. S6268

Fort Carson

Ft. Carson Co: El Paso CO 80913-

Property No.: 21200340085

Status: Unutilized

Comment: 840 sq. ft., presence of asbestos/lead paint, most recent use—storage, off-site use only

Bldgs. 25, 26, 27

Pueblo Chemical Depot

Pueblo CO 81006-

Property No.: 21200420178

Status: Unutilized

Comment: 1311 sq. ft., presence of asbestos/lead paint, most recent use—housing, off-site use only

Bldg. 00127

Pueblo Chemical Depot

Pueblo CO 81006-

Property No.: 21200420179

Status: Unutilized

Comment: 8067 sq. ft., presence of asbestos, most recent use—barracks, off-site use only

Georgia

Building

Bldg. 4963, Fort Benning

Ft. Benning Co: Muscogee GA 31905-

Property No.: 21199220710

Status: Unutilized

Comment: 6077 sq. ft., 1 story, most recent use—storehouse, need repairs, off-site removal only.

Bldg. 2396, Fort Benning

Ft. Benning Co: Muscogee GA 31905-

Property No.: 21199220712

Status: Unutilized

Comment: 9786 sq. ft., 1 story, most recent use—dining facility, needs major rehab, off-site removal only

Bldg. 4967, Fort Benning

Ft. Benning Co: Muscogee GA 31905-

Property No.: 21199220728

Status: Unutilized

Comment: 6077 sq. ft., 1 story, most recent use—storage, need repairs, off-site removal only

Bldg. 4944, Fort Benning

Ft. Benning Co: Muscogee GA 31905-

Property No.: 21199220747

Status: Unutilized

Comment: 6400 sq. ft., 1 story, most recent use—vehicle maintenance shop, need repairs, off-site removal only

Bldg. 4964, Fort Benning

Ft. Benning Co: Muscogee GA 31905-

Property No.: 21199220763

Status: Unutilized

Comment: 2000 sq. ft., 1 story, most recent use—headquarters bldg., need repairs, off-site removal only

Bldg. 4945, Fort Benning

Ft. Benning Co: Muscogee GA 31905-

Property No.: 21199220779

Status: Unutilized

Comment: 220 sq. ft., 1 story, most recent use—gas station, needs major rehab, off-site removal only

Bldg. 4023, Fort Benning

Ft. Benning Co: Muscogee GA 31905-

Property No.: 21199310461

Status: Unutilized

Comment: 2269 sq. ft., 1-story, needs rehab, most recent use—maintenance shop, off-site use only

Bldg. 4024, Fort Benning

Ft. Benning Co: Muscogee GA 31905-

Property No.: 21199310462

Status: Unutilized

Comment: 3281 sq. ft., 1-story, needs rehab, most recent use—maintenance shop, off-site use only

Bldg. 4051, Fort Benning

Ft. Benning Co: Muscogee GA 31905-

Property No.: 21199520175

Status: Unutilized

Comment: 967 sq. ft., 1-story, needs rehab, most recent use—storage, off-site use only

Bldg. 322

Fort Benning

Ft. Benning Co: Muscogee GA 31905-

Property No.: 21199720156

Status: Unutilized

Comment: 9600 sq. ft., needs rehab, most recent use—admin., off-site use only

Bldg. 2593

Fort Benning

Ft. Benning Co: Muscogee GA 31905-

Property No.: 21199720167

Status: Unutilized

Comment: 13644 sq. ft., needs rehab, most recent use—parachute shop, off-site use only

Bldg. 2595

Fort Benning

Ft. Benning Co: Muscogee GA 3190

Property No.: 21199720168

Status: Unutilized

Comment: 3356 sq. ft., needs rehab, most recent use—chapel, off-site use only

Bldg. 4476

Fort Benning

Ft. Benning Co: Muscogee GA 31905-

Property No.: 21199720184

Status: Unutilized

Comment: 3148 sq. ft., needs rehab, most recent use—vehicle maint. shop, off-site use only

Bldg. 92

Fort Benning

Co: Muscogee GA 31905-

Property No.: 21199830278

Status: Unutilized

Comment: 637 sq. ft., needs rehab, most recent use—admin., off-site use only

Bldg. 4232

Fort Benning

Co: Muscogee GA 31905-

Property No.: 21199830291

Status: Unutilized

Comment: 3720 sq. ft., needs rehab, most recent use—maint. bay, off-site use only

Bldg. 2288

Fort Benning

Ft. Benning Co: Muscogee GA 31905-

Property No.: 21199930123

Status: Unutilized

Comment: 2481 sq. ft., most recent use—admin., off-site use only

Bldg. 2293

Fort Benning

Ft. Benning Co: Muscogee GA 31905-

Property No.: 21199930125

Status: Unutilized

Comment: 2600 sq. ft., most recent use—hdqts. bldg., off-site use only

Bldg. 2297

Fort Benning

Ft. Benning Co: Muscogee GA 31905-

Property No.: 21199930126

Status: Unutilized

Comment: 5156 sq. ft., most recent use—admin

Bldg. 2508

Fort Benning

Ft. Benning Co: Muscogee GA 31905-

Property No.: 21199930128

Status: Unutilized

Comment: 2434 sq. ft., most recent use—storage, off-site use only

Bldg. 2815

Fort Benning

Ft. Benning Co: Muscogee GA 31905-

Property No.: 21199930129

Status: Unutilized

Comment: 2578 sq. ft., most recent use—hdqts. bldg., off-site use only

Bldg. 3815

Fort Benning

Ft. Benning Co: Muscogee GA 31905-

Property No.: 21199930130

Status: Unutilized

Comment: 7575 sq. ft., most recent use—storage, off-site use only

Bldg. 3816

Fort Benning

Ft. Benning Co: Muscogee GA 31905-

Property No.: 21199930131

Status: Unutilized

Comment: 7514 sq. ft., most recent use—storage, off-site use only

Bldgs. 5974-5978

Fort Benning

Ft. Benning Co: Muscogee GA 31905-

Property No.: 21199930135

Status: Unutilized

Comment: 400 sq. ft., most recent use—storage, off-site use only

Bldg. 5993

Fort Benning

Ft. Benning Co: Muscogee GA 31905-

Property No.: 21199930136

Status: Unutilized

Comment: 960 sq. ft., most recent use—storage, off-site use only

Bldg. 5994

Fort Benning

Ft. Benning Co: Muscogee GA 31905-

Property No.: 21199930137

Status: Unutilized

Comment: 2016 sq. ft., most recent use—storage, off-site use only

Bldg. T-1003

Fort Stewart

Hinesville Co: Liberty GA 31514-

Property No.: 21200030085

Status: Excess

Comment: 9267 sq. ft., poor condition, most recent use—admin., off-site use only

Bldg. T0130

Fort Stewart

Hinesville Co: Liberty GA 31314-5136

Property No.: 21200230041

Status: Excess

Comment: 10,813 sq. ft., off-site use only

Bldg. T0157

Fort Stewart

Hinesville Co: Liberty GA 31314-5136

Property No.: 21200230042

Status: Excess

Comment: 1440 sq. ft., off-site use only

Bldgs. T291, T292

Fort Stewart

Hinesville Co: Liberty GA 31314-5136

Property No.: 21200230044

Status: Excess

Comment: 5220 sq. ft. each, off-site use only

Bldg. T0295

Fort Stewart

Hinesville Co: Liberty GA 31314-5136

Property No.: 21200230045

Status: Excess

Comment: 5220 sq. ft., off-site use only

Bldgs. 00064, 00065

Camp Frank D. Merrill

Dahlonega Co: Lumpkin GA 30597-

Property No.: 21200330108

Status: Unutilized

Comment: 648 sq. ft. each, concrete block, most recent use—water support treatment bldg., off-site use only

Bldg. P1450

Hunter Army Airfield

Garrison Co: Chatham GA 31409-

Property No.: 21200420027

Status: Excess

Comment: 100,230 sq. ft., most recent use—health clinic, off-site use only

Bldg. 4151

Fort Benning

Ft. Benning Co: Chattachoochee GA 31905-

Property No.: 21200420032

Status: Excess

Comment: 3169 sq. ft., most recent use—battle lab, off-site use only

Bldg. 4152

Fort Benning

Ft. Benning Co: Chattachoochee GA 31905-

Property No.: 21200420033

Status: Excess

Comment: 721 sq. ft., most recent use—battle lab, off-site use only

Bldg. 4476

Fort Benning

Ft. Benning Co: Chattachoochee GA 31905-

Property No.: 21200420034

Status: Excess

Comment: 3148 sq. ft., most recent use—veh. maint. shop, off-site use only

Bldg. 8771

Fort Benning

Ft. Benning Co: Chattachoochee GA 31905-

Property No.: 21200420044

Status: Excess

Comment: 972 sq. ft., most recent use—RH/TGT house, off-site use only

Bldg. 9029

Fort Benning

Ft. Benning Co: Chattachoochee GA 31905-

Property No.: 21200420050

Status: Excess

Comment: 7356 sq. ft., most recent use—heat plant bldg., off-site use only

Bldg. 11370

Fort Benning

Ft. Benning Co: Chattachoochee GA 31905-

Property No.: 21200420051

Status: Excess

Comment: 9602 sq. ft., most recent use—nco/enl bldg., off-site use only

Bldg. T924

Fort Stewart

Ft. Stewart Co: Liberty GA 31314-

Property No.: 21200420194

Status: Excess

Comment: 9360 sq. ft., most recent use—warehouse, off-site use only

Bldg. 00924

Fort Stewart

Ft. Stewart Co: Liberty GA 31314-

Property No.: 21200510065

Status: Excess

Comment: 9360 sq. ft., most recent use—warehouse, off-site use only

Bldg. 05955

Fort Benning

Chattachoochee Co: GA 31905-

Property No.: 21200520097

Status: Unutilized

Comment: 95 sq. ft., poor condition, most recent use—dispatch, off-site use only

Bldg. 9012

Fort Benning

Chattachoochee Co: GA 31905-

Property No.: 21200520098

Status: Unutilized

Comment: 40,442 sq. ft., poor condition, most recent use—enlisted housing, off-site use only

Bldg. 9016

Fort Benning

Chattachoochee Co: GA 31905-

Property No.: 21200520101

Status: Unutilized

Comment: 6138 sq. ft., poor condition, most recent use—BN HQ Bldg., off-site use only

Bldg. 9019

Fort Benning

Chattachoochee Co: GA 31905-

Property No.: 21200520102

Status: Unutilized

Comment: 7243 sq. ft., poor condition, most recent use—BN HQ Bldg., off-site use only

Bldgs. 9027, 9036, 9044

Fort Benning

Chattachoochee Co: GA 31905-

Property No.: 21200520103

Status: Unutilized

Comment: various sq. ft., poor condition, most recent use—CO HQ Bldg., off-site use only

Bldg. 9100

Fort Benning

Chattachoochee Co: GA 31905-

Property No.: 21200520107

Status: Unutilized

Comment: 4875 sq. ft., poor condition, most recent use—BDE HQ Bldg., off-site use only

Bldgs. 9198, 9199

Fort Benning

Chattachoochee Co: GA 31905-

Property No.: 21200520108

Status: Unutilized

Comment: 1008 sq. ft., poor condition, most recent use—admin., off-site use only

Bldg. 10642

Fort Benning

Chattachoochee Co: GA 31905-

Property No.: 21200520111

Status: Unutilized

Comment: 176 sq. ft., poor condition, most recent use—storage shed, off-site use only

Bldg. 01199

Hunter Army Airfield

Savannah Co: Chatham GA 31409-

Property No.: 21200530072

Status: Excess

Comment: 224 sq. ft., most recent use—storage, off-site use only

Bldg. 01202

Hunter Army Airfield

Savannah Co: Chatham GA 31409-

Property No.: 21200530073

Status: Excess

Comment: 1014 sq. ft., most recent use—storage, off-site use only

Bldg. 01203

Hunter Army Airfield

Savannah Co: Chatham GA 31409-

Property No.: 21200530074

Status: Excess

Comment: 18,822 sq. ft., most recent use—vehicle maintenance, off-site use only

Bldg. 01226

Hunter Army Airfield

Savannah Co: Chatham GA 31409-

Property No.: 21200530075

Status: Excess

Comment: 1092 sq. ft., most recent use—plant, off-site use only

Bldg. 01296

Hunter Army Airfield

Savannah Co: Chatham GA 31409-

Property No.: 21200530076

Status: Excess

Comment: 269 sq. ft., most recent use—storage, off-site use only

Bldg. 01283

Hunter Army Airfield

Savannah Co: Chatham GA 31409-

Property No.: 21200530077

Status: Excess

Comment: 1350 sq. ft., most recent use—storage, off-site use only

Bldg. 08585

Hunter Army Airfield

Savannah Co: Chatham GA 31409-

Property No.: 21200530078

Status: Excess

Comment: 165 sq. ft., most recent use—plant, off-site use only

Land

Land (Railbed)

Fort Benning

Ft. Benning Co: Muscogee GA 31905-

Property No.: 21199440440

Status: Unutilized

Comment: 17.3 acres extending 1.24 miles, no known utilities potential

Hawaii

Building

P-88

Aliamanu Military Reservation

Honolulu Co: Honolulu HI 96818-

Property No.: 21199030324

Location: Approximately 600 feet from Main Gate on Aliamanu Drive.

Status: Unutilized

Comment: 45,216 sq. ft., underground tunnel complex, pres. of asbestos clean-up required of contamination, use of respirator required by those entering property, use limitations

Illinois

Building

Bldg. 54

Rock Island Arsenal

Rock Island Co: Rock Island IL 61299-

Property No.: 21199620666

Status: Unutilized

Comment: 2000 sq. ft., most recent use—oil storage, needs repair, off-site use only

Bldg. AR112

Sheridan Reserve

Arlington Heights IL 60052-2475

Property No.: 21200110081

Status: Unutilized

Comment: 1000 sq. ft., off-site use only

Iowa

Building

Bldg. 00691

Iowa Army Ammo Plant

Middletown Co: Des Moines IA 52638-

Property No.: 21200510073

Status: Unutilized

Comment: 2581 sq. ft., residence, presence of lead paint, possible asbestos

Bldg. 00691

Iowa Army Ammo Plant

Middletown Co: Des Moines IA 52638-

Property No.: 21200520113

Status: Unutilized

Comment: 2581 sq. ft., presence of asbestos/lead paint, most recent use—residential

Kentucky

Building

Bldgs. 00023, 00024, 00025

Blue Grass Army Depot

Richmond Co: Madison KY 40475-

Property No.: 21200540082

Status: Excess

Comment: 5530/2036/1062 sq. ft., most recent use—admin offices, off-site use only

Bldg. 00032

Blue Grass Army Depot

Richmond Co: Madison KY 40475-

Property No.: 21200540083

Status: Excess

Comment: 153 sq. ft., most recent use—depot access control, off-site use only

Louisiana

Building

Bldg. 8423, Fort Polk

Ft. Polk Co: Vernon Parish LA 71459-

Property No.: 21199640528

Status: Underutilized

Comment: 4172 sq. ft., most recent use—barracks

Bldg. T7125

Fort Polk

Ft. Polk Co: LA 71459-

Property No.: 21200540088

Status: Unutilized

Comment: 1875 sq. ft., off-site use only

Bldgs. T7163, T8043

Fort Polk

Ft. Polk Co: LA 71459-

Property No.: 21200540089

Status: Unutilized

Comment: 4073/1923 sq. ft., off-site use only

Maryland

Building

Bldg. 0459B

Aberdeen Proving Ground

Aberdeen Co: Harford MD 21005-5001

Property No.: 21200120106

Status: Unutilized

Comment: 225 sq. ft., poor condition, most recent use—equipment bldg., off-site use only

Bldg. 00785

Aberdeen Proving Ground

Aberdeen Co: Harford MD 21005-5001

Property No.: 21200120107

Status: Unutilized

Comment: 160 sq. ft., poor condition, most recent use—shelter, off-site use only

Bldg. E3728

Aberdeen Proving Ground

Aberdeen Co: Harford MD 21005-5001

Property No.: 21200120109

Status: Unutilized

Comment: 2596 sq. ft., presence of asbestos/lead paint, most recent use—testing facility, off-site use only

Bldg. E5239

Aberdeen Proving Ground

Aberdeen Co: Harford MD 21005-5001

Property No.: 21200120113

Status: Unutilized

Comment: 230 sq. ft., most recent use—storage, off-site use only

Bldg. E5317

Aberdeen Proving Ground

Aberdeen Co: Harford MD 21005-5001

Property No.: 21200120114

Status: Unutilized

Comment: 3158 sq. ft., presence of asbestos/lead paint, most recent use—lab, off-site use only

Bldg. E5637

Aberdeen Proving Ground

Aberdeen Co: Harford MD 21005-5001

Property No.: 21200120115

Status: Unutilized

Comment: 312 sq. ft., presence of asbestos/lead paint, most recent use—lab, off-site use only

Bldg. 219

Ft. George G. Meade

Ft. Meade Co: Anne Arundel MD 20755-

Property No.: 21200140078

Status: Unutilized

Comment: 8142 sq. ft., presence of asbestos/lead paint, most recent use—admin., off-site use only

Bldg. 294

Ft. George G. Meade

Ft. Meade Co: Anne Arundel MD 20755-

Property No.: 21200140081

Status: Unutilized

Comment: 3148 sq. ft., presence of asbestos/lead paint, most recent use—entomology facility, off-site use only

Bldg. 949

Ft. George G. Meade

Ft. Meade Co: Anne Arundel MD 20755-

Property No.: 21200140083

Status: Unutilized

Comment: 2441 sq. ft., presence of asbestos/lead paint, most recent use—storehouse, off-site use only

Bldg. 979

Ft. George G. Meade

Ft. Meade Co: Anne Arundel MD 20755-

Property No.: 21200140084

Status: Unutilized

Comment: 2331 sq. ft., presence of asbestos/lead paint, most recent use—admin., off-site use only

Bldg. 1007

Ft. George G. Meade

Ft. Meade Co: Anne Arundel MD 20755-

Property No.: 21200140085

Status: Unutilized

Comment: 3108 sq. ft., presence of asbestos/lead paint, most recent use—storage, off-site use only

Bldg. 2214

Fort George G. Meade

Fort Meade Co: Anne Arundel MD 20755-

Property No.: 21200230054

Status: Unutilized

Comment: 7740 sq. ft., needs rehab, possible asbestos/lead paint, most recent use—storage, off-site use only

Bldg. 00375

Aberdeen Proving Ground

Aberdeen Co: Harford MD 21005-

Property No.: 21200320107

Status: Unutilized

Comment: 64 sq. ft., most recent use—storage, off-site use only

Bldg. 0385A

Aberdeen Proving Ground

Aberdeen Co: Harford MD 21005-

Property No.: 21200320110

Status: Unutilized

Comment: 944 sq. ft., off-site use only

Bldg. 00523

Aberdeen Proving Ground

Aberdeen Co: Harford MD 21005-

Property No.: 21200320113

Status: Unutilized

Comment: 3897 sq. ft., most recent use—paint shop, off-site use only

Bldg. 00649

Aberdeen Proving Ground

Aberdeen Co: Harford MD 21005-

Property No.: 21200320116

Status: Unutilized

Comment: 1079 sq. ft., most recent use—storage, off-site use only

Bldg. 00657

Aberdeen Proving Ground

Aberdeen Co: Harford MD 21005-

Property No.: 21200320119

Status: Unutilized

Comment: 1048 sq. ft., most recent use—bunker, off-site use only

Bldg. 0700B

Aberdeen Proving Ground

Aberdeen Co: Harford MD 21005-

Property No.: 21200320121

Status: Unutilized

Comment: 505 sq. ft., off-site use only

Bldg. 01113

Aberdeen Proving Ground

Aberdeen Co: Harford MD 21005-

Property No.: 21200320128

Status: Unutilized

Comment: 1012 sq. ft., off-site use only

Bldgs. 01124, 01132

Aberdeen Proving Ground

Aberdeen Co: Harford MD 21005-

Property No.: 21200320129

Status: Unutilized

Comment: 740/2448 sq. ft., most recent use—lab, off-site use only

Bldgs. 02373, 02378

Aberdeen Proving Ground

Aberdeen Co: Harford MD 21005-

Property No.: 21200320130

Status: Unutilized

Comment: 8359 sq. ft., most recent use—training, off-site use only

Bldg. 03558

Aberdeen Proving Ground

Aberdeen Co: Harford MD 21005-

Property No.: 21200320133

Status: Unutilized

Comment: 18,000 sq. ft., most recent use—storage, off-site use only

Bldg. 05262

Aberdeen Proving Ground

Aberdeen Co: Harford MD 21005-

Property No.: 21200320136

Status: Unutilized

Comment: 864 sq. ft., most recent use—storage, off-site use only

Bldg. 05608

Aberdeen Proving Ground

Aberdeen Co: Harford MD 21005-

Property No.: 21200320137

Status: Unutilized

Comment: 1100 sq. ft., most recent use—maint bldg., off-site use only

Bldg. E5108

Aberdeen Proving Ground

Aberdeen Co: Harford MD 21005-

Property No.: 21200320147

Status: Unutilized

Comment: 5155 sq. ft., most recent use—recreation center, off-site use only

Bldg. E5483

Aberdeen Proving Ground

Aberdeen Co: Harford MD 21005-

Property No.: 21200320148

Status: Unutilized

Comment: 2140 sq. ft., most recent use—vehicle storage, off-site use only

Bldg. E5645

Aberdeen Proving Ground

Aberdeen Co: Harford MD 21005-

Property No.: 21200320150

Status: Unutilized

Comment: 548 sq. ft., most recent use—storage, off-site use only

Bldg. 00435

Aberdeen Proving Ground

Aberdeen Co: Harford MD 21005-

Property No.: 21200330111

Status: Unutilized

Comment: 1191 sq. ft., needs rehab, most recent use—storage, off-site use only

Bldg. 0449A

Aberdeen Proving Ground

Aberdeen Co: Harford MD 21005-

Property No.: 21200330112

Status: Unutilized

Comment: 143 sq. ft., needs rehab, most recent use—substation switch bldg., off-site use only

Bldg. 0460

Aberdeen Proving Ground

Aberdeen Co: Harford MD 21005-

Property No.: 21200330114

Status: Unutilized

Comment: 1800 sq. ft., needs rehab, most recent use—electrical EQ bldg., off-site use only

Bldg. 00914

Aberdeen Proving Ground

Aberdeen Co: Harford MD 21005-

Property No.: 21200330118

Status: Unutilized

Comment: needs rehab, most recent use—safety shelter, off-site use only

Bldg. 00915

Aberdeen Proving Ground

Aberdeen Co: Harford MD 21005-

Property No.: 21200330119

Status: Unutilized

Comment: 247 sq. ft., needs rehab, most recent use—storage, off-site use only

Bldg. 01189

Aberdeen Proving Ground

Aberdeen Co: Harford MD 21005-

Property No.: 21200330126

Status: Unutilized

Comment: 800 sq. ft., needs rehab, most recent use—range bldg., off-site use only

Bldg. E1413

Aberdeen Proving Ground

Aberdeen Co: Harford MD 21005-

Property No.: 21200330127

Status: Unutilized

Comment: needs rehab, most recent use—observation tower, off-site use only

Bldg. E2350A

Aberdeen Proving Ground

Aberdeen Co: Harford MD 21005-

Property No.: 21200330132

Status: Unutilized

Comment: 325 sq. ft., need rehab, most recent use—oil storage, off-site use only

Bldg. 2456

Aberdeen Proving Ground

Aberdeen Co: Harford MD 21005-

Property No.: 21200330133

Status: Unutilized

Comment: 4720 sq. ft., needs rehab, presence of asbestos/lead paint, most recent use—admin., off-site use only

Bldg. E3175

Aberdeen Proving Ground

Aberdeen Co: Harford MD 21005-

Property No.: 21200330134

Status: Unutilized

Comment: 1296 sq. ft., needs rehab, most recent use—hazard bldg., off-site use only

4 Bldgs.

Aberdeen Proving Ground

Aberdeen Co: Harford MD 21005-

Property No.: 21200330135

Location: E3224, E3228, E3230, E3232, E3234

Status: Unutilized

Comment: sq. ft. varies, needs rehab, most recent use—lab test bldgs., off-site use only

Bldg. E3241

Aberdeen Proving Ground

Aberdeen Co: Harford MD 21005-

Property No.: 21200330136

Status: Unutilized

Comment: 592 sq. ft., needs rehab, most recent use—medical res bldg., off-site use only

Bldgs. E3269, E3270

Aberdeen Proving Ground

Aberdeen Co: Harford MD 21005-

Property No.: 21200330138

Status: Unutilized

Comment: 200/1200 sq. ft., needs rehab, most recent use—flam. storage, off-site use only

Bldg. E3300

Aberdeen Proving Ground

Aberdeen Co: Harford MD 21005-

Property No.: 21200330139

Status: Unutilized

Comment: 44,352 sq. ft., needs rehab, most recent use—chemistry lab, off-site use only

Bldg. E3335

Aberdeen Proving Ground

Aberdeen Co: Harford MD 21005-

Property No.: 21200330144

Status: Unutilized

Comment: 400 sq. ft., needs rehab, most recent use—storage, off-site use only

Bldgs. E3360, E3362, E3464

Aberdeen Proving Ground

Aberdeen Co: Harford MD 21005-

Property No.: 21200330145

Status: Unutilized

Comment: 3588/236 sq. ft., needs rehab, most recent use—storage, off-site use only

Bldg. E3542

Aberdeen Proving Ground

Aberdeen Co: Harford MD 21005-

Property No.: 21200330148

Status: Unutilized

Comment: 1146 sq. ft., needs rehab, most recent use—lab test bldg., off-site use only

Bldgs. 03554, 03556

Aberdeen Proving Ground

Aberdeen Co: Harford MD 21005-

Property No.: 21200330149

Status: Unutilized

Comment: 18,000/9,000 sq. ft., needs rehab, most recent use—storage, off-site use only

Bldg. E4420

Aberdeen Proving Ground

Aberdeen Co: Harford MD 21005-

Property No.: 21200330151

Status: Unutilized

Comment: 14,997 sq. ft., needs rehab, most recent use—police bldg., off-site use only

Bldg. E4733

Aberdeen Proving Ground

Aberdeen Co: Harford MD 21005-

Property No.: 21200330152

Status: Unutilized

Comment: 2252 sq. ft., needs rehab, most recent use—flammable storage, off-site use only

Bldg. E4734

Aberdeen Proving Ground

Aberdeen Co: Harford MD 21005-

Property No.: 21200330153

Status: Unutilized

Comment: 1114 sq. ft., needs rehab, most recent use—private club, off-site use only

4 Bldgs.

Aberdeen Proving Ground

Aberdeen Co: Harford MD 21005-

Property No.: 21200330154

Location: E5005, E5049, E5050, E5051

Status: Unutilized

Comment: sq. ft., varies, needs rehab, most recent use—storage, off-site use only

Bldg. E5068

Aberdeen Proving Ground

Aberdeen Co: Harford MD 21005-

Property No.: 21200330155

Status: Unutilized

Comment: 1200 sq. ft., needs rehab, most recent use—fire station, off-site use only

Bldg. 05447

Aberdeen Proving Ground

Aberdeen Co: Harford MD 21005-

Property No.: 21200330160

Status: Unutilized

Comment: 2464 sq. ft., needs rehab, most recent use—storage, off-site use only

Bldgs. 05448, 05449

Aberdeen Proving Ground

Aberdeen Co: Harford MD 21005-

Property No.: 21200330161

Status: Unutilized

Comment: 6431 sq. ft., needs rehab, most recent use—enlisted UHP, off-site use only

Bldg. 05450

Aberdeen Proving Ground

Aberdeen Co: Harford MD 21005-

Property No.: 21200330162

Status: Unutilized

Comment: 2730 sq. ft., needs rehab, most recent use—admin., off-site use only

Bldgs. 05451, 05455

Aberdeen Proving Ground

Aberdeen Co: Harford MD 21005-

Property No.: 21200330163

Status: Unutilized

Comment: 2730/6431 sq. ft., needs rehab, most recent use—storage, off-site use only

Bldg. 05453

Aberdeen Proving Ground

Aberdeen Co: Harford MD 21005-

Property No.: 21200330164

Status: Unutilized

Comment: 6431 sq. ft., needs rehab, most recent use—admin., off-site use only

Bldgs. 05456, 05459, 05460

Aberdeen Proving Ground

Aberdeen Co: Harford MD 21005-

Property No.: 21200330165

Status: Unutilized

Comment: 6431 sq. ft., needs rehab, most recent use—enlisted bldg., off-site use only

Bldg. E5609

Aberdeen Proving Ground

Aberdeen Co: Harford MD 21005-

Property No.: 21200330167

Status: Unutilized

Comment: 2053 sq. ft., needs rehab, most recent use—storage, off-site use only

Bldg. E5611

Aberdeen Proving Ground

Aberdeen Co: Harford MD 21005-

Property No.: 21200330168

Status: Unutilized

Comment: 11,242 sq. ft., needs rehab, most recent use—hazard bldg., off-site use only

Bldg. E5634

Aberdeen Proving Ground

Aberdeen Co: Harford MD 21005-

Property No.: 21200330169

Status: Unutilized

Comment: 200 sq. ft., needs rehab, most recent use—flammable storage, off-site use only

Bldg. E5654

Aberdeen Proving Ground

Aberdeen Co: Harford MD 21005-

Property No.: 21200330171

Status: Unutilized

Comment: 21,532 sq. ft., needs rehab, most recent use—storage, off-site use only

Bldg. E5854

Aberdeen Proving Ground

Aberdeen Co: Harford MD 21005-

Property No.: 21200330174

Status: Unutilized

Comment: 5166 sq. ft., needs rehab, most recent use—eng/MTN bldg., off-site use only

Bldg. E5942

Aberdeen Proving Ground

Aberdeen Co: Harford MD 21005-

Property No.: 21200330176

Status: Unutilized

Comment: 2147 sq. ft., needs rehab, most recent use—igloo storage, off-site use only

Bldgs. E5952, E5953

Aberdeen Proving Ground

Aberdeen Co: Harford MD 21005-

Property No.: 21200330177

Status: Unutilized

Comment: 100/24 sq. ft., needs rehab, most recent use—compressed air bldg., off-site use only

Bldgs. E7401, E7402

Aberdeen Proving Ground

Aberdeen Co: Harford MD 21005-

Property No.: 21200330178

Status: Unutilized

Comment: 256/440 sq. ft., needs rehab, most recent use—storage, off-site use only

Bldg. E7407, E7408

Aberdeen Proving Ground

Aberdeen Co: Harford MD 21005-

Property No.: 21200330179

Status: Unutilized

Comment: 1078/762 sq. ft., needs rehab, most recent use—decon facility, off-site use only

Bldg. E7931

Aberdeen Proving Ground

Aberdeen Co: Harford MD 21005-

Property No.: 21200330182

Status: Unutilized

Comment: needs rehab, most recent use—sewer treatment, off-site use only

Bldg. 1145D

Aberdeen Proving Ground

Harford MD 21005-

Property No.: 21200420054

Status: Unutilized

Comment: 898 sq. ft., most recent use—storage, off-site use only

Bldg. 3070A

Aberdeen Proving Ground

Harford MD 21005-

Property No.: 21200420055

Status: Unutilized

Comment: 2299 sq. ft., most recent use—heat plant, off-site use only

Bldg. E5026

Aberdeen Proving Ground

Harford MD 21005-

Property No.: 21200420056

Status: Unutilized

Comment: 20,536 sq. ft., most recent use—storage, off-site use only

Bldg. 05261

Aberdeen Proving Ground

Harford MD 21005-

Property No.: 21200420057

Status: Unutilized

Comment: 10067 sq. ft., most recent use—maintenance, off-site use only

Bldgs. 00733, 00734

Aberdeen Proving Ground

Aberdeen Co: Harford MD 21005-

Property No.: 21200430063

Status: Unutilized

Comment: 136 sq. ft., each, most recent use—ammo storage, off-site use only

Bldg. 0401A

Aberdeen Proving Ground

Aberdeen Co: Harford MD 21005-

Property No.: 21200440068

Status: Unutilized

Comment: 220 sq. ft., needs rehab, most recent use—storage, off-site use only

Bldg. 0748A

Aberdeen Proving Ground

Aberdeen Co: Harford MD 21005-

Property No.: 21200440069

Status: Unutilized

Comment: 112 sq. ft., needs rehab, most recent use—shelter, off-site use only

Bldg. 01198

Aberdeen Proving Ground

Aberdeen Co: Harford MD 21005-

Property No.: 21200440070

Status: Unutilized

Comment: 168 sq. ft., needs rehab, most recent use—ordnance, off-site use only

Bldg. 03557

Aberdeen Proving Ground

Aberdeen Co: Harford MD 21005-

Property No.: 21200440071

Status: Unutilized

Comment: 340 sq. ft., needs rehab, most recent use—storage, off-site use only

Bldg. E3732

Aberdeen Proving Ground

Aberdeen Co: Harford MD 21005-

Property No.: 21200440072

Status: Unutilized

Comment: 1080 sq. ft., needs rehab, most recent use—storage, off-site use only

Bldg. E5876

Aberdeen Proving Ground

Aberdeen Co: Harford MD 21005-

Property No.: 21200440073

Status: Unutilized

Comment: 1192 sq. ft., needs rehab, most recent use—storage, off-site use only

Bldg. 00673

Aberdeen Proving Ground

Aberdeen Co: Harford MD 21005-

Property No.: 21200530079

Status: Unutilized

Comment: 3600 sq. ft., most recent use—ordance, off-site use only

Bldg. 00688

Aberdeen Proving Ground

Aberdeen Co: Harford MD 21005-

Property No.: 21200530080

Status: Unutilized

Comment: 24,192 sq. ft., most recent use—ammo, off-site use only

Bldg. 0739A

Aberdeen Proving Ground

Aberdeen Co: Harford MD 21005-

Property No.: 21200530081

Status: Unutilized

Comment: 1474 sq. ft., most recent use—ordance, off-site use only

Bldg. E1511

Aberdeen Proving Ground

Aberdeen Co: Harford MD 21005-

Property No.: 21200530082

Status: Unutilized

Comment: 201 sq. ft., most recent use—access control, off-site use only

Bldg. 02832

Aberdeen Proving Ground

Aberdeen Co: Harford MD 21005-

Property No.: 21200530083

Status: Unutilized

Comment: 36 sq. ft., most recent use—access control, off-site use only

Bldg. 05655

Aberdeen Proving Ground

Aberdeen Co: Harford MD 21005-

Property No.: 21200530084

Status: Unutilized

Comment: 1610 sq. ft., most recent use—access control, off-site use only

Bldg. 0706A

Aberdeen Proving Ground

Aberdeen Co: Harford MD 21005-

Property No.: 21200540090

Status: Unutilized

Comment: 576 sq. ft., most recent use—firing barracks, off-site use only

Bldg. 04925

Aberdeen Proving Ground

Aberdeen Co: Harford MD 21005-

Property No.: 21200540091

Status: Unutilized

Comment: 1326 sq. ft., off-site use only

Bldg. E5001

Aberdeen Proving Ground

Aberdeen Co: Harford MD 21005-

Property No.: 21200540092

Status: Unutilized

Comment: 400 sq. ft., most recent use—access control, off-site use only

Missouri

Building

Bldg. T1497

Fort Leonard Wood

Ft. Leonard Wood Co: Pulaski MO 65473-5000

Property No.: 21199420441

Status: Underutilized

Comment: 4720 sq. ft., 2-story, presence of lead base paint, most recent use—admin/gen. purpose, off-site use only

Bldg. T2139

Fort Leonard Wood

Ft. Leonard Wood Co: Pulaski MO 65473-5000

Property No.: 21199420446

Status: Underutilized

Comment: 3663 sq. ft., 1-story, presence of lead base paint, most recent use—admin/gen. purpose, off-site use only

Bldg. T2385

Fort Leonard Wood

Ft. Leonard Wood Co: Pulaski MO 65473-

Property No.: 21199510115

Status: Excess

Comment: 3158 sq. ft., 1-story, wood frame, most recent use—admin., to be vacated 8/95, off-site use only

Bldg. 2167

Fort Leonard Wood

Ft. Leonard Wood Co: Pulaski MO 65473-5000

Property No.: 21199820179

Status: Unutilized

Comment: 1296 sq. ft., presence of asbestos/lead paint, most recent use—admin., off-site use only

Bldgs. 2192, 2196, 2198

Fort Leonard Wood

Ft. Leonard Wood Co: Pulaski MO 65473-5000

Property No.: 21199820183

Status: Unutilized

Comment: 4720 sq. ft., presence of asbestos/lead paint, most recent use—barracks, off-site use only

12 Bldgs.

Fort Leonard Wood

Ft. Leonard Wood Co: Pulaski MO 65743-8944

Property No.: 21200410110

Location: 07036, 07050, 07054, 07102, 07400, 07401, 08245, 08249, 08251, 08255, 08257, 08261.

Status: Unutilized

Comment: 7152 sq. ft., 6 plex housing quarters, potential contaminants, off-site use only

6 Bldgs.

Fort Leonard Wood

Ft. Leonard Wood Co: Pulaski MO 65743-8944

Property No.: 21200410111

Location: 07044, 07106, 07107, 08260, 08281, 08300

Status: Unutilized

Comment: 9520 sq. ft., 8 plex housing quarters, potential contaminants, off-site use only

15 Bldgs.

Fort Leonard Wood

Ft. Leonard Wood Co: Pulaski MO 65743-8944

Property No.: 21200410112

Location: 08242, 08243, 08246-08248, 08250, 08252-08254, 08256, 08258-08259, 08262-08263, 08265

Status: Unutilized

Comment: 4784 sq. ft., 4 plex housing quarters, potential contaminants, off-site use only

Bldgs. 08283, 08285

Fort Leonard Wood

Ft. Leonard Wood Co: Pulaski MO 65743-8944

Property No.: 21200410113

Status: Unutilized

Comment: 2240 sq. ft., 2 plex housing quarters, potential contaminants, off-site use only

15 Bldgs.

Fort Leonard Wood

Ft. Leonard Wood Co: Pulaski MO 65743-0827

Property No.: 21200410114

Location: 08267, 08269, 08271, 08273, 08275, 08277, 08279, 08290-08296, 08301

Status: Unutilized

Comment: 4784 sq. ft., 4 plex housing quarters, potential contaminants, off-site use only

Bldg. 09432

Fort Leonard Wood

Ft. Leonard Wood Co: Pulaski MO 65743-8944

Property No.: 21200410115

Status: Unutilized

Comment: 8724 sq ft., 6-plex housing quarters, potential contaminants, off-site use only

Bldgs. 5006 and 5013

Fort Leonard Wood

Ft. Leonard Wood Co: Pulaski MO 65743-8944

Property No.: 21200430064

Status: Unutilized

Comment: 192 & 144 sq. ft., needs repair, most recent use—generator bldg., off-site use only

Bldgs. 13210, 13710

Fort Leonard Wood

Ft. Leonard Wood Co: Pulaski MO 65743-8944

Property No.: 21200430065

Status: Unutilized

Comment: 144 sq. ft., each, needs repair, most recent use—communication, off-site use only

Montana

Building

Bldg. 00405

Fort Harrison

Ft. Harrison Co: Lewis/Clark MT 59636-

Property No.: 21200130099

Status: Unutilized

Comment: 3467 sq. ft., most recent use—storage, security limitations

Bldg. T0066

Fort Harrison

Ft. Harrison Co: Lewis/Clark MT 59636-

Property No.: 21200130100

Status: Unutilized

Comment: 528 sq. ft., needs rehab, presence of asbestos, security limitations

Bldg. 00001

Sheridan Hall USARC

Helena Co: MT 59601-

Property No.: 21200540093

Status: Unutilized

Comment: 19,321 sq. ft., most recent use—Reserve Center

Bldg. 00003

Sheridan Hall USARC

Helena Co: MT 59601-

Property No.: 21200540094

Status: Unutilized

Comment: 1950 sq. ft., most recent use—maintenance/storage

New Jersey

Building

Bldg. 732

Armament R&D Engineering Center

Picatinny Arsenal Co: Morris NJ 07806-5000

Property No.: 21199740315

Status: Unutilized

Comment: 9077 sq. ft., needs rehab, most recent use—storage, off-site use only

Bldg. 816C

Armament R, D, & Eng. Center

Picatinny Arsenal Co: Morris NJ 07806-5000

Property No.: 21200130103

Status: Unutilized

Comment: 144 sq. ft., most recent use—storage, off-site use only

New Mexico

Building

Bldg. 34198

White Sands Missile Range

Dona Ana NM 88002-

Property No.: 21200230062

Status: Excess

Comment: 107 sq. ft., most recent use—security, off-site use only

New York

Building

Bldg. 1227

U.S. Military Academy

Highlands Co: Orange NY 10996-1592

Property No.: 21200440074

Status: Unutilized

Comment: 3800 sq. ft., needs repair, possible asbestos/lead paint, most recent use—maintenance, off-site use only

Bldg. 2218

Stewart Newburg USARC

New Windsor Co: Orange NY 12553-9000

Property No.: 21200510067

Status: Unutilized

Comment: 32,000 sq. ft., poor condition, requires major repairs, most recent use—storage/services

7 Bldgs.

Stewart Newburg USARC

New Windsor Co: Orange NY 12553-9000

Property No.: 21200510068

Location: 2122, 2124, 2126, 2128, 2106, 2108, 2104

Status: Unutilized

Comment: sq. ft. varies, poor condition, needs major repairs, most recent use—storage/services

Tappan USARC

335 Western Hwy

Tappan Co: Rockland NY 10983-

Property No.: 21200510069

Status: Excess

Comment: 33,537 sq. ft., army reserve center

Ohio

Land

Land

Defense Supply Center

Columbus Co: Franklin OH 43216-5000

Property No.: 21200340094

Status: Excess

Comment: 11 acres, railroad access

Oklahoma

Building

Bldg. T-838

Fort Sill

838 Macomb Road

Lawton Co: Comanche OK 73503-5100

Property No.: 21199220609

Status: Unutilized

Comment: 151 sq. ft., wood frame, 1 story, off-site removal only, most recent use—vet facility (quarantine stable)

Bldg. T-954

Fort Sill

954 Quinette Road

Lawton Co: Comanche OK 73503-5100

Property No.: 21199240659

Status: Unutilized

Comment: 3571 sq. ft., 1 story wood frame, needs rehab, off-site use only, most recent use—motor repair shop

Bldg. T-3325

Fort Sill

3325 Naylor Road

Lawton Co: Comanche OK 73503-5100

Property No.: 21199240681

Status: Unutilized

Comment: 8832 sq. ft., 1 story wood frame, needs rehab, off-site use only, most recent use—warehouse

Bldg. T-4226

Fort Sill

Lawton Co: Comanche OK 73503-

Property No.: 21199440384

Status: Unutilized

Comment: 114 sq. ft., 1-story wood frame, possible asbestos and lead paint, most recent use—storage, off-site use only

Bldg. P-1015

Fort Sill

Lawton Co: Comanche OK 73501-5100

Property No.: 21199520197

Status: Unutilized

Comment: 15402 sq. ft., 1-story, most recent use—storage, off-site use only

Bldg. P-366

Fort Sill

Lawton Co: Comanche OK 73503-

Property No.: 21199610740

Status: Unutilized

Comment: 482 sq. ft., possible asbestos, most recent use—storage, off-site use only

Building T-2952

Fort Sill

Lawton Co: Comanche OK 73503-5100

Property No.: 21199710047

Status: Unutilized

Comment: 4,327 sq. ft., possible asbestos and leadpaint, most recent use—motor repair shop, off-site use only

Building P-5042

Fort Sill

Lawton Co: Comanche OK 73503-5100

Property No.: 21199710066

Status: Unutilized

Comment: 119 sq. ft., possible asbestos and leadpaint, most recent use—heatplant, off-site use only

4 Buildings

Fort Sill

Lawton Co: Comanche OK 73503-5100

Property No.: 21199710086

Location: T-6465, T-6466, T-6467, T-6468

Status: Unutilized

Comment: various sq. ft., possible asbestos and leadpaint, most recent use—range support, off site use only

Bldg. T-810

Fort Sill

Lawton Co: Comanche OK 73503-5100

Property No.: 21199730350

Status: Unutilized

Comment: 7205 sq. ft., possible asbestos/lead paint, most recent use—hay storage, off-site use only

Bldgs. T-837, T-839

Fort Sill

Lawton Co: Comanche OK 73503-5100

Property No.: 21199730351

Status: Unutilized

Comment: approx. 100 sq. ft. each, possible asbestos/lead paint, most recent use—storage, off-site use only

Bldg. P-934

Fort Sill

Lawton Co: Comanche OK 73503-5100

Property No.: 21199730353

Status: Unutilized

Comment: 402 sq. ft., possible asbestos/lead paint, most recent use—storage, off-site use only

Bldgs. T-1468, T-1469

Fort Sill

Lawton Co: Comanche OK 73503-5100

Property No.: 21199730357

Status: Unutilized

Comment: 114 sq. ft., possible asbestos/lead paint, most recent use—storage, off-site use only

Bldg. T-1470

Fort Sill

Lawton Co: Comanche OK 73503-5100

Property No.: 21199730358

Status: Unutilized

Comment: 3120 sq. ft., possible asbestos/lead paint, most recent use—storage, off-site use only

Bldgs. T-1954, T-2022

Fort Sill

Lawton Co: Comanche OK 73503-5100

Property No.: 21199730362

Status: Unutilized

Comment: approx. 100 sq. ft. each, possible asbestos/lead paint, most recent use—storage, off-site use only

Bldg. T-2184

Fort Sill

Lawton Co: Comanche OK 73503-5100

Property No.: 21199730364

Status: Unutilized

Comment: 454 sq. ft., possible asbestos/lead paint, most recent use—storage, off-site use only

Bldgs. T-2186, T-2188, T-2189

Fort Sill

Lawton Co: Comanche OK 73503-5100

Property No.: 21199730366

Status: Unutilized

Comment: 1656-3583 sq. ft., possible asbestos/lead paint, most recent use—vehicle maint. shop, off-site use only

Bldg. T-2187

Fort Sill

Lawton Co: Comanche OK 73503-5100

Property No.: 21199730367

Status: Unutilized

Comment: 1673 sq. ft., possible asbestos/lead paint, most recent use—storage, off-site use only

Bldgs. T-2291 thru T-2296

Fort Sill

Lawton Co: Comanche OK 73503-5100

Property No.: 21199730372

Status: Unutilized

Comment: 400 sq. ft. each, possible asbestos/lead paint, most recent use—storage, off-site use only

Bldgs. T-3001, T-3006

Fort Sill

Lawton Co: Comanche OK 73503-5100

Property No.: 21199730383

Status: Unutilized

Comment: approx. 9300 sq. ft., possible asbestos/lead paint, most recent use—storage, off-site use only

Bldg. T-3314

Fort Sill

Lawton Co: Comanche OK 73503-5100

Property No.: 21199730385

Status: Unutilized

Comment: 229 sq. ft., possible asbestos/lead paint, most recent use—office, off-site use only

Bldg. T-5041

Fort Sill

Lawton Co: Comanche OK 73503-5100

Property No.: 21199730409

Status: Unutilized

Comment: 763 sq. ft., possible asbestos/lead paint, most recent use—storage, off-site use only

Bldg. T-5420

Fort Sill

Lawton Co: Comanche OK 73503-5100

Property No.: 21199730414

Status: Unutilized

Comment: 189 sq. ft., possible asbestos/lead paint, most recent use—fuel storage, off-site use only

Bldg. T-7775

Fort Sill

Lawton Co: Comanche OK 73503-5100

Property No.: 21199730419

Status: Unutilized

Comment: 1452 sq. ft., possible asbestos/lead paint, most recent use—private club, off-site use only

4 Bldgs.

Fort Sill

P-617, P-1114, P-1386, P-1608

Lawton Co: Comanche OK 73503-5100

Property No.: 21199910133

Status: Unutilized

Comment: 106 sq. ft., possible asbestos/lead paint, most recent use—utility plant, off-site use only

Bldg. P-746

Fort Sill

Lawton Co: Comanche OK 73503-5100

Property No.: 21199910135

Status: Unutilized

Comment: 6299 sq. ft., possible asbestos/lead paint, most recent use—admin., off-site use only

Bldgs. P-2581, P-2773

Fort Sill

Lawton Co: Comanche OK 73503-5100

Property No.: 21199910140

Status: Unutilized

Comment: 4093 and 4129 sq. ft., possible asbestos/lead paint, most recent use—office, off-site use only

Bldg. P-2582

Fort Sill

Lawton Co: Comanche OK 73503-5100

Property No.: 21199910141

Status: Unutilized

Comment: 3672 sq. ft., possible asbestos/lead paint, most recent use—admin., off-site use only

Bldgs. P-2912, P-2921, P-2944

Fort Sill

Lawton Co: Comanche OK 73503-5100

Property No.: 21199910144

Status: Unutilized

Comment: 1390 sq. ft., possible asbestos/lead paint, most recent use—office, off-site use only

Bldg. P-2914

Fort Sill

Lawton Co: Comanche OK 73503-5100

Property No.: 21199910146

Status: Unutilized

Comment: 1236 sq. ft., possible asbestos/lead paint, most recent use—storage, off-site use only

Bldg. P-5101

Fort Sill

Lawton Co: Comanche OK 73503-5100

Property No.: 21199910153

Status: Unutilized

Comment: 82 sq. ft., possible asbestos/lead paint, most recent use—gas station, off-site use only

Bldg. S-6430

Fort Sill

Lawton Co: Comanche OK 73503-5100

Property No.: 21199910156

Status: Unutilized

Comment: 2080 sq. ft., possible asbestos/lead paint, most recent use—range support, off-site use only

Bldg. T-6461

Fort Sill

Lawton Co: Comanche OK 73503-5100

Property No.: 21199910157

Status: Unutilized

Comment: 200 sq. ft., possible asbestos/lead paint, most recent use—range support, off-site use only

Bldg. T-6462

Fort Sill

Lawton Co: Comanche OK 73503-5100

Property No.: 21199910158

Status: Unutilized

Comment: 64 sq. ft., possible asbestos/lead paint, most recent use—control tower, off-site use only

Bldg. P-7230

Fort Sill

Lawton Co: Comanche OK 73503-5100

Property No.: 21199910159

Status: Unutilized

Comment: 160 sq. ft., possible asbestos/lead paint, most recent use—transmitter bldg., off-site use only

Bldg. S-4023

Fort Sill

Lawton Co: Comanche OK 73503-5100

Property No.: 21200010128

Status: Unutilized

Comment: 1200 sq. ft., possible asbestos/lead paint, most recent use—storage, off-site use only

Bldg. P-747

Fort Sill

Lawton Co: Comanche OK 73503-5100

Property No.: 21200120120

Status: Unutilized

Comment: 9232 sq. ft., possible asbestos/lead paint, most recent use—lab, off-site use only

Bldg. P-842

Fort Sill

Lawton Co: Comanche OK 73503-5100

Property No.: 21200120123

Status: Unutilized

Comment: 192 sq. ft., possible asbestos/lead paint, most recent use—storage, off-site use only

Bldg. T-911

Fort Sill

Lawton Co: Comanche OK 73503-5100

Property No.: 21200120124

Status: Unutilized

Comment: 3080 sq. ft., possible asbestos/lead paint, most recent use—office, off-site use only

Bldg. P-1672

Fort Sill

Lawton Co: Comanche OK 73503-5100

Property No.: 21200120126

Status: Unutilized

Comment: 1056 sq. ft., possible asbestos/lead paint, most recent use—storage, off-site use only

Bldg. S-2362

Fort Sill

Lawton Co: Comanche OK 73503-5100

Property No.: 21200120127

Status: Unutilized

Comment: 64 sq. ft., possible asbestos/lead paint, most recent use—gatehouse, off-site use only

Bldg. P-2589

Fort Sill

Lawton Co: Comanche OK 73503-5100

Property No.: 21200120129

Status: Unutilized

Comment: 3672 sq. ft., possible asbestos/lead paint, most recent use—storage, off-site use only

Bldgs. 01276, 01278

Fort Sill

Lawton Co: Comanche OK 73501-5100

Property No.: 21200520119

Status: Unutilized

Comment: 1533 & 2700 sq. ft., most recent use—maintenance, off-site use only

Pennsylvania

Building

5 Bldgs.

Carlisle Barracks 00441 thru 00445

Carlisle Co: Cumberland PA 17013-

Property No.: 21200430066

Status: Unutilized

Comment: 4238 sq. ft. each, presence of asbestos, most recent use—residential, off-site use only

South Carolina

Building

Bldg. 3499

Fort Jackson

Ft. Jackson Co: Richland SC 29207-

Property No.: 21199730310

Status: Unutilized

Comment: 3724 sq. ft., needs repair, most recent use—admin.

Bldg. 2441

Fort Jackson

Ft. Jackson Co: Richland SC 29207-

Property No.: 21199820187

Status: Unutilized

Comment: 2160 sq. ft., needs repair, most recent use—admin.

Bldg. 3605

Fort Jackson

Ft. Jackson Co: Richland SC 29207-

Property No.: 21199820188

Status: Unutilized

Comment: 711 sq. ft., needs repair, most recent use—storage

Bldg. 1765

Fort Jackson

Ft. Jackson Co: Richland SC 29207-

Property No.: 21200030109

Status: Unutilized

Comment: 1700 sq. ft., need repairs, presence of asbestos/lead paint, most recent use—training bldg., off-site use only

Land

One Acre

Fort Jackson

Columbia Co: Richland SC 29207-

Property No.: 21200110089

Status: Underutilized

Comment: approx. 1 acre

Texas

Building

Bldg. 7137

Fort Bliss

El Paso Co: El Paso TX 79916-

Property No.: 21199640564

Status: Unutilized

Comment: 35,736 sq. ft., 3-story, most recent use—housing, off-site use only

Bldg. 92043

Fort Hood

Ft. Hood Co: Bell TX 76544-

Property No.: 21200020206

Status: Unutilized

Comment: 450 sq. ft., most recent use—storage, off-site use only

Bldg. 92044

Fort Hood

Ft. Hood Co: Bell TX 76544-

Property No.: 21200020207

Status: Unutilized

Comment: 1920 sq. ft., most recent use—admin., off-site use only

Bldg. 92045

Fort Hood

Ft. Hood Co: Bell TX 76544-

Property No.: 21200020208

Status: Unutilized

Comment: 2108 sq. ft., most recent use—maint., off-site use only

Bldg. 120

Fort Hood

Ft. Hood Co: Bell TX 76544-

Property No.: 21200220137

Status: Unutilized

Comment: 1450 sq. ft., most recent use—dental clinic, off-site use only

Bldg. 56305

Fort Hood

Ft. Hood Co: Bell TX 76544-

Property No.: 21200220143

Status: Unutilized

Comment: 2160 sq. ft., most recent use—admin., off-site use only

Bldgs. 56620, 56621

Fort Hood

Ft. Hood Co: Bell TX 76544-

Property No.: 21200220146

Status: Unutilized

Comment: 1120 sq. ft., most recent use—shower, off-site use only

Bldgs. 56626, 5667

Fort Hood

Ft. Hood Co: Bell TX 76544-

Property No.: 21200220147

Status: Unutilized

Comment: 1120 sq. ft., most recent use—shower, off-site use only

Bldg. 5668

Fort Hood

Ft. Hood Co: Bell TX 76544-

Property No.: 21200220148

Status: Unutilized

Comment: 1133 sq. ft., most recent use—shower, off-site use only

Bldgs. 56636, 56637

Fort Hood

Ft. Hood Co: Bell TX 76544-

Property No.: 21200220150

Status: Unutilized

Comment: 1120 sq. ft., most recent use—shower, off-site use only

Bldg. 56638

Fort Hood

Ft. Hood Co: Bell TX 76544-

Property No.: 21200220151

Status: Unutilized

Comment: 1133 sq. ft., most recent use—shower, off-site use only

Bldgs. 56703, 56708

Fort Hood

Ft. Hood Co: Bell TX 76544-

Property No.: 21200220152

Status: Unutilized

Comment: 1306 sq. ft., most recent use—shower, off-site use only

Bldg. 56758

Fort Hood

Ft. Hood Co: Bell TX 76544-

Property No.: 21200220154

Status: Unutilized

Comment: 1133 sq. ft., most recent use—shower, off-site use only

Bldgs. P6220, P6222

Fort Sam Houston

Camp Bullis

San Antonio Co: Bexar TX

Property No.: 21200330197

Status: Unutilized

Comment: 384 sq. ft., most recent use—carport/storage, off-site use only

Bldgs. P6224, P6226

Fort Sam Houston

Camp Bullis

San Antonio Co: Bexar TX

Property No.: 21200330198

Status: Unutilized

Comment: 384 sq. ft., most recent use—carport/storage, off-site use only

Bldg. 04200

Fort Hood

Ft. Hood Co: Bell TX 76544-

Property No.: 21200420065

Status: Unutilized

Comment: 2100 sq. ft., presence of asbestos, most recent use—admin., off-site use only

Land

1 acre

Fort Sam Houston

San Antonio Co: Bexar TX 78234-

Property No.: 21200440075

Status: Excess

Comment: 1 acre, grassy area

Virginia

Building

Bldgs. 1516, 1517, 1552, 1567

Fort Eustis

Ft. Eustis VA 23604-

Property No.: 21200130154

Status: Unutilized

Comment: 2892 & 4720 sq. ft., most recent use—dining/barracks/admin, off-site use only

Bldg. 1559

Fort Eustis

Ft. Eustis VA 23604-

Property No.: 21200130156

Status: Unutilized

Comment: 2892 sq. ft., most recent use—storage, off-site use only

Bldg. T-707

Fort Eustis

Ft. Eustis VA 23604-

Property No.: 21200330199

Status: Unutilized

Comment: 3763 sq. ft., most recent use—chapel, off-site use only

Washington

Building

Bldg. CO909

Fort Lewis

Ft. Lewis Co: Pierce WA 98433-9500

Property No.: 21199630205

Status: Unutilized

Comment: 1984 sq. ft., possible asbestos/lead paint, most recent use—admin., off-site use only

Bldg. 1164

Fort Lewis

Ft. Lewis Co: Pierce WA 98433-9500

Property No.: 21199630213

Status: Unutilized

Comment: 230 sq. ft., possible asbestos/lead paint, most recent use—storehouse, off-site use only

Bldg. 1307

Fort Lewis

Ft. Lewis Co: Pierce WA 98433-9500

Property No.: 21199630216

Status: Unutilized

Comment: 1092 sq. ft., possible asbestos/lead paint, most recent use—storage, off-site use only

Bldg. 1309

Fort Lewis

Ft. Lewis Co: Pierce WA 98433-9500

Property No.: 21199630217

Status: Unutilized

Comment: 1092 sq. ft., possible asbestos/lead paint, most recent use—storage, off-site use only

Bldg. 2167

Fort Lewis

Ft. Lewis Co: Pierce WA 98433-9500

Property No.: 21199630218

Status: Unutilized

Comment: 288 sq. ft., possible asbestos/lead paint, most recent use—warehouse, off-site use only

Bldg. 4078

Fort Lewis

Ft. Lewis Co: Pierce WA 98433-9500

Property No.: 21199630219

Status: Unutilized

Comment: 10200 sq. ft., needs rehab, possible asbestos/lead paint, most recent use—warehouse, off-site use only

Bldg. 9599

Fort Lewis

Ft. Lewis Co: Pierce WA 98433-9500

Property No.: 21199630220

Status: Unutilized

Comment: 12366 sq. ft., possible asbestos/lead paint, most recent use—warehouse, off-site use only

Bldg. A1404

Fort Lewis

Ft. Lewis Co: Pierce WA 98433-

Property No.: 21199640570

Status: Unutilized

Comment: 557 sq. ft., needs rehab, most recent use—storage, off-site use only

Bldg. EO347

Fort Lewis

Ft. Lewis Co: Pierce WA 98433-

Property No.: 21199710156

Status: Unutilized

Comment: 1800 sq. ft., possible asbestos/lead paint, most recent use—office, off-site use only

Bldg. B1008

Fort Lewis

Ft. Lewis Co: Pierce WA 98433-

Property No.: 21199720216

Status: Unutilized

Comment: 7387 sq. ft., 2-story, needs rehab, possible asbestos/lead paint, most recent use—medical clinic, off-site use only

Bldgs. CO509, CO709, CO720

Fort Lewis

Ft. Lewis Co: Pierce WA 98433-

Property No.: 21199810372

Status: Unutilized

Comment: 1984 sq. ft., possible asbestos/lead paint, needs rehab, most recent use—storage, off-site use only

Bldg. 5162

Fort Lewis

Ft. Lewis Co: Pierce WA 98433-

Property No.: 21199830419

Status: Unutilized

Comment: 2360 sq. ft., needs repair, presence of asbestos/lead paint, most recent use—office, off-site use only

Bldg. 5224

Fort Lewis

Ft. Lewis Co: Pierce WA 98433-

Property No.: 21199830433

Status: Unutilized

Comment: 2360 sq. ft., needs repair, presence of asbestos/lead paint, most recent use—educ. fac., off-site use only

Bldg. U001B

Fort Lewis

Ft. Lewis Co: Pierce WA 98433-

Property No.: 21199920237

Status: Excess

Comment: 54 sq. ft., needs repair, presence of asbestos/lead paint, most recent use—control tower, off-site use only

Bldg. U001C

Fort Lewis

Ft. Lewis Co: Pierce WA 98433-

Property No.: 21199920238

Status: Unutilized

Comment: 960 sq. ft., needs repair, presence of asbestos/lead paint, most recent use—supply, off-site use only

10 Bldgs.

Fort Lewis

Ft. Lewis Co: Pierce WA 98433-

Property No.: 21199920239

Location: U002B, U002C, U005C, U015I, U016E, U019C, U022A, U028B, 0091A, U093C

Status: Excess

Comment: 600 sq. ft., needs repair, presence of asbestos/lead paint, most recent use—range house, off-site use only

6 Bldgs.

Fort Lewis

Ft. Lewis Co: Pierce WA 98433-

Property No.: 21199920240

Location: U003A, U004B, U006C, U015B, U016B, U019B

Status: Unutilized

Comment: 54 sq. ft., needs repair, presence of asbestos/lead paint, most recent use—control tower, off-site use only

Bldg. U004D

Fort Lewis

Ft. Lewis Co: Pierce WA 98433-

Property No.: 21199920241

Status: Unutilized

Comment: 960 sq. ft., needs repair, presence of asbestos/lead paint, most recent use—supply, off-site use only

Bldg. U005A

Fort Lewis

Ft. Lewis Co: Pierce WA 98433-

Property No.: 21199920242

Status: Unutilized

Comment: 360 sq. ft., needs repair, presence of asbestos/lead paint, most recent use—control tower, off-site use only

7 Bldgs.

Fort Lewis

Ft. Lewis Co: Pierce WA 98433-

Property No.: 21199920245

Location: U014A, U022B, U023A, U043B, U059B, U060A, U101A

Status: Excess

Comment: Needs repair, presence of asbestos/lead paint, most recent use—ofc/tower/support, off-site use only

Bldg. U015J

Fort Lewis

Ft. Lewis Co: Pierce WA 98433-

Property No.: 21199920246

Status: Excess

Comment: 144 sq. ft., needs repair, presence of asbestos/lead paint, most recent use—tower, off-site use only

Bldg. U018B

Fort Lewis

Ft. Lewis Co: Pierce WA 98433-

Property No.: 21199920247

Status: Unutilized

Comment: 121 sq. ft., needs repair, presence of asbestos/lead paint, most recent use—range house, off-site use only

Bldg. U018C

Fort Lewis

Ft. Lewis Co: Pierce WA 98433-

Property No.: 21199920248

Status: Unutilized

Comment: 48 sq. ft., needs repair, presence of asbestos/lead paint, off-site use only

Bldg. U024D

Fort Lewis

Ft. Lewis Co: Pierce WA 98433-

Property No.: 21199920250

Status: Unutilized

Comment: 120 sq. ft., needs repair, presence of asbestos/lead paint, most recent use—ammo bldg., off-site use only

Bldg. U027A

Fort Lewis

Ft. Lewis Co: Pierce WA

Property No.: 21199920251

Status: Excess

Comment: 64 sq. ft., needs repair, presence of asbestos/lead paint, most recent use—tire house, off-site use only

Bldg. U031A

Fort Lewis

Ft. Lewis Co: Pierce WA 98433-

Property No.: 21199920253

Status: Excess

Comment: 3456 sq. ft., needs repair, presence of asbestos/lead paint, most recent use—line shed, off-site use only

Bldg. U031C

Fort Lewis

Ft. Lewis Co: Pierce WA 98433-

Property No.: 21199920254

Status: Unutilized

Comment: 32 sq. ft., needs repair, presence of asbestos/lead paint, off-site use only

Bldg. U040D

Fort Lewis

Ft. Lewis Co: Pierce WA 98433-

Property No.: 21199920255

Status: Excess

Comment: 800 sq. ft., needs repair, presence of asbestos/lead paint, most recent use—range house, off-site use only

Bldgs. U052C, U052H

Fort Lewis

Ft. Lewis Co: Pierce WA 98433-

Property No.: 21199920256

Status: Excess

Comment: Various sq. ft., needs repair, presence of asbestos/lead paint, most recent use—range house, off-site use only

Bldgs. U035A, U035B

Fort Lewis

Ft. Lewis Co: Pierce WA 98433-

Property No.: 21199920257

Status: Excess

Comment: 192 sq. ft., needs repair, presence of asbestos/lead paint, most recent use—shelter, off-site use only

Bldg. U035C

Fort Lewis

Ft. Lewis Co: Pierce WA 98433-

Property No.: 21199920258

Status: Excess

Comment: 242 sq. ft., needs repair, presence of asbestos/lead paint, most recent use—range house, off-site use only

Bldg. U039A

Fort Lewis

Ft. Lewis Co: Pierce WA 98433-

Property No.: 21199920259

Status: Excess

Comment: 36 sq. ft., needs repair, presence of asbestos/lead paint, most recent use—control tower, off-site use only

Bldg. U039B

Fort Lewis

Ft. Lewis Co: Pierce WA 98433-

Property No.: 21199920260

Status: Excess

Comment: 1600 sq. ft., needs repair, presence of asbestos/lead paint, most recent use—grandstand/bleachers, off-site use only

Bldg. U039C

Fort Lewis

Ft. Lewis Co: Pierce WA 98433-

Property No.: 21199920261

Status: Excess

Comment: 600 sq. ft., needs repair, presence of asbestos/lead paint, most recent use—support, off-site use only

Bldg. U043A

Fort Lewis

Ft. Lewis Co: Pierce WA 98433-

Property No.: 21199920262

Status: Excess

Comment: 132 sq. ft., needs repair, presence of asbestos/lead paint, most recent use—range house, off-site use only

Bldg. U052A

Fort Lewis

Ft. Lewis Co: Pierce WA 98433-

Property No.: 21199920263

Status: Excess

Comment: 69 sq. ft., needs repair, presence of asbestos/lead paint, most recent use—tower, off-site use only

Bldg. U052E

Fort Lewis

Ft. Lewis Co: Pierce WA 98433-

Property No.: 21199920264

Status: Excess

Comment: 600 sq. ft., needs repair, presence of asbestos/lead paint, most recent use—storage, off-site use only

Bldg. U052G

Fort Lewis

Ft. Lewis Co: Pierce WA 98433-

Property No.: 21199920265

Status: Excess

Comment: 1600 sq. ft., needs repair, presence of asbestos/lead paint, most recent use—shelter, off-site use only.

3 Bldgs.

Fort Lewis

Ft. Lewis Co: Pierce WA 98433-

Property No.: 21199920266

Location: U058A, U103A, U018A

Status: Excess

Comment: 36 sq. ft., needs repair, presence of asbestos/lead paint, most recent use—control tower, off-site use only

Bldg. U059A

Fort Lewis

Ft. Lewis Co: Pierce WA 98433-

Property No.: 21199920267

Status: Excess

Comment: 16 sq. ft., needs repair, presence of asbestos/lead paint, most recent use—tower, off-site use only

Bldg. U093B

Fort Lewis

Ft. Lewis Co: Pierce WA 98433-

Property No.: 21199920268

Status: Excess

Comment: 680 sq. ft., needs repair, presence of asbestos/lead paint, most recent use—range house, off-site use only

4 Bldgs.

Fort Lewis

Ft. Lewis Co: Pierce WA 98433-

Property No.: 21199920269

Location:

U101B, U101C, U507B, U557A

Status: Excess

Comment: 400 sq. ft., needs repair, presence of asbestos/lead paint, off-site use only

Bldg. U110B

Fort Lewis

Ft. Lewis Co: Pierce WA 98433-

Property No.: 21199920272

Status: Excess

Comment: 138 sq. ft., needs repair, presence of asbestos/lead paint, most recent use—support, off-site use only

6 Bldgs.

Fort Lewis

Ft. Lewis Co: Pierce WA 98433-

Property No.: 21199920273

Location: U111A, U015A, U024E, U052F, U109A, U110A

Status: Excess

Comment: 1000 sq. ft., needs repair, presence of asbestos/lead paint, most recent use—support/shelter/mess, off-site use only

Bldg. U112A

Fort Lewis

Ft. Lewis Co: Pierce WA 98433-

Property No.: 21199920274

Status: Excess

Comment: 1600 sq. ft., needs repair, presence of asbestos/lead paint, most recent use-shelter, off-site use only

Bldg. U115A

Fort Lewis

Ft. Lewis Co: Pierce WA 98433-

Property No.: 21199920275

Status: Excess

Comment: 36 sq. ft., needs repair, presence of asbestos/lead paint, most recent use—tower, off-site use only

Bldg. U507A

Fort Lewis

Ft. Lewis Co: Pierce WA 98433-

Property No.: 21199920276

Status: Excess

Comment: 400 sq. ft., needs repair, presence of asbestos/lead paint, most recent use—support, off-site use only

Bldg. C0120

Fort Lewis

Ft. Lewis Co: Pierce WA 98433-

Property No.: 21199920281

Status: Excess

Comment: 384 sq. ft., needs repair, presence of asbestos/lead paint, most recent use—scale house, off-site use only

Bldg. 01205

Fort Lewis

Ft. Lewis Co: Pierce WA 98433-

Property No.: 21199920290

Status: Excess

Comment: 87 sq. ft., needs repair, presence of asbestos/lead paint, most recent use—storehouse, off-site use only

Bldg. 01259

Fort Lewis

Ft. Lewis Co: Pierce WA 98433-

Property No.: 21199920291

Status: Excess

Comment: 16 sq. ft., needs repair, presence of asbestos/lead paint, most recent use—storage, off-site use only

Bldg. 01266

Fort Lewis

Ft. Lewis Co: Pierce WA 98433-

Property No.: 21199920292

Status: Excess

Comment: 45 sq. ft., needs repair, presence of asbestos/lead paint, most recent use—shelter, off-site use only

Bldg. 1445

Fort Lewis

Ft. Lewis Co: Pierce WA 98433-

Property No.: 21199920294

Status: Excess

Comment: 144 sq. ft., needs repair, presence of asbestos/lead paint, most recent use—generator bldg., off-site use only

Bldgs. 03091, 03099

Fort Lewis

Ft. Lewis Co: Pierce WA 98433-

Property No.: 21199920296

Status: Excess

Comment: various sq. ft., needs repair, presence of asbestos/lead paint, most recent use—sentry station, off-site use only

Bldg. 4040

Fort Lewis

Ft. Lewis Co: Pierce WA 98433-

Property No.: 21199920298

Status: Excess

Comment: 8326 sq. ft., needs repair, presence of asbestos/lead paint, most recent use—shed, off-site use only

Bldgs. 4072, 5104

Fort Lewis

Ft. Lewis Co: Pierce WA 98433-

Property No.: 21199920299

Status: Excess

Comment: 24/36 sq. ft., needs repair, presence of asbestos/lead paint, off-site use only

Bldg. 4295

Fort Lewis

Ft. Lewis Co: Pierce WA 98433-

Property No.: 21199920300

Status: Excess

Comment: 48 sq. ft., needs repair, presence of asbestos/lead paint, most recent use—storage, off-site use only

Bldg. 6191

Fort Lewis

Ft. Lewis Co: Pierce WA 98433-

Property No.: 21199920303

Status: Excess

Comment: 3663 sq. ft., needs repair, presence of asbestos/lead paint, most recent use—exchange branch, off-site use only

Bldgs. 08076, 08080

Fort Lewis

Ft. Lewis Co: Pierce WA 98433-

Property No.: 21199920304

Status: Excess

Comment: 3660/412 sq .ft., needs repair, presence of asbestos/lead paint, off-site use only

Bldg. 08093

Fort Lewis

Ft. Lewis Co: Pierce WA 98433-

Property No.: 21199920305

Status: Excess

Comment: 289 sq. ft., needs repair, presence of asbestos/lead paint, most recent use—boat storage, off-site use only

Bldg. 8279

Fort Lewis

Ft. Lewis Co: Pierce WA 98433-

Property No.: 21199920306

Status: Excess

Comment: 210 sq. ft., needs repair, presence of asbestos/lead paint, most recent use—fuel disp. fac., off-site use only

Bldgs. 8280, 8291

Fort Lewis

Ft. Lewis Co: Pierce WA 98433-

Property No.: 21199920307

Status: Excess

Comment: 800/464 sq. ft., needs repair, presence of asbestos/lead paint, most recent use—storage, off-site use only

Bldg. 8956

Fort Lewis

Ft. Lewis Co: Pierce WA 98433-

Property No.: 21199920308

Status: Excess

Comment: 100 sq. ft., needs repair, presence of asbestos/lead paint, most recent use—storage, off-site use only

Bldg. 9530

Fort Lewis

Ft. Lewis Co: Pierce WA 98433-

Property No.: 21199920309

Status: Excess

Comment: 64 sq. ft., needs repair, presence of asbestos/lead paint, most recent use—sentry station, off-site use only

Bldg. 9574

Fort Lewis

Ft. Lewis Co: Pierce WA 98433-

Property No.: 21199920310

Status: Excess

Comment: 6005 sq. ft., needs repair, presence of asbestos/lead paint, most recent use—veh. shop., off-site use only

Bldg. 9596

Fort Lewis

Ft. Lewis Co: Pierce WA 98433-

Property No.: 21199920311

Status: Excess

Comment: 36 sq. ft., needs repair, presence of asbestos/lead paint, most recent use—gas station, off-site use only

COE

Arkansas

Land

Parcel 01

DeGray Lake

Section 12

Arkadelphia Co: Clark AR 71923-9361

Property No.: 31199010071

Status: Unutilized

Comment: 77.6 acres

Parcel 02

DeGray Lake

Section 13

Arkadelphia Co: Clark AR 71923-9361

Property No.: 31199010072

Status: Unutilized

Comment: 198.5 acres

Parcel 03

DeGray Lake

Section 18

Arkadelphia Co: Clark AR 71923-9361

Property No.: 31199010073

Status: Unutilized

Comment: 50.46 acres

Parcel 04

DeGray Lake

Section 24, 25, 30 and 31

Arkadelphia Co: Clark AR 71923-9361

Property No.: 31199010074

Status: Unutilized

Comment: 236.37 acres

Parcel 05

DeGray Lake

Section 16

Arkadelphia Co: Clark AR 71923-9361

Property No.: 31199010075

Status: Unutilized

Comment: 187.30 acres

Parcel 06

DeGray Lake

Section 13

Arkadelphia Co: Clark AR 71923-9361

Property No.: 31199010076

Status: Unutilized

Comment: 13.0 acres

Parcel 07

DeGray Lake

Section 34

Arkadelphia Co: Hot Spring AR 71923-9361

Property No.: 31199010077

Status: Unutilized

Comment: 0.27 acres

Parcel 08

DeGray Lake

Section 13

Arkadelphia Co: Clark AR 71923-9361

Property No.: 31199010078

Status: Unutilized

Comment: 14.6 acres

Parcel 09

DeGray Lake

Section 12

Arkadelphia Co: Hot Spring AR 71923-9361

Property No.: 31199010079

Status: Unutilized

Comment: 6.60 acres

Parcel 10

DeGray Lake

Section 12

Arkadelphia Co: Hot Spring AR 71923-9361

Property No.: 31199010080

Status: Unutilized

Comment: 4.5 acres

Parcel 11

DeGray Lake

Section 19

Arkadelphia Co: Hot Spring AR 71923-9361

Property No.: 31199010081

Status: Unutilized

Comment: 19.50 acres

Lake Greeson

Section 7, 8 and 18

Murfreesboro Co: Pike AR 71958-9720

Property No.: 31199010083

Status: Unutilized

Comment: 46 acres

Georgia

Building

Bldg. W0-3

West Point Lake

West Point Co: GA 31833-

Property No.: 31200520001

Status: Unutilized

Comment: 7 x 7 gatehouse, off-site use only

Kansas

Land

Parcel 1

El Dorado Lake

Section 13, 24, and 18

(See County) Co: Butler KS

Property No.: 31199010064

Status: Unutilized

Comment: 61 acres; most recent use—recreation

Kentucky

Building

Green River Lock & Dam #3

Rochester Co: Butler KY 42273-

Property No.: 31199010022

Location: SR 70 west from Morgantown, KY., approximately 7 miles to site.

Status: Unutilized

Comment: 980 sq. ft.; 2 story wood frame; two story residence; potential utilities; needs major rehab

Land

Tract 2625

Barkley Lake, Kentucky, and Tennessee

Cadiz Co: Trigg KY 42211-

Property No.: 31199010025

Location: Adjoining the village of Rockcastle.

Status: Excess

Comment: 2.57 acres; rolling and wooded

Tract 2709-10 and 2710-2

Barkley Lake, Kentucky and Tennessee

Cadiz Co: Trigg KY 42211-

Property No.: 31199010026

Location: 2½ miles in a southerly direction from the village of Rockcastle.

Status: Excess

Comment: 2.00 acres; steep and wooded

Tract 2708-1 and 2709-1

Barkley Lake, Kentucky and Tennessee

Cadiz Co: Trigg KY 42211-

Property No.: 31199010027

Location: 2½ miles in a southerly direction from the village of Rockcastle.

Status: Excess

Comment: 3.59 acres; rolling and wooded; no utilities

Tract 2800

Barkley Lake, Kentucky and Tennessee

Cadiz Co: Trigg KY 42211-

Property No.: 31199010028

Location: 4½ miles in a southeasterly direction from the village of Rockcastle.

Status: Excess

Comment: 5.44 acres; steep and wooded

Tract 2915

Barkley Lake, Kentucky and Tennessee

Cadiz Co: Trigg KY 42211-

Property No.: 31199010029

Location: 6½ miles west of Cadiz.

Status: Excess

Comment: 5.76 acres; steep and wooded; no utilities

Tract 2702

Barkley Lake, Kentucky and Tennessee

Cadiz Co: Trigg KY 42211-

Property No.: 31199010031

Location: 1 mile in a southerly direction from the village of Rockcastle

Status: Excess

Comment: 4.90 acres; wooded; no utilities

Tract 4318

Barkley Lake, Kentucky and Tennessee

Canton Co: Trigg KY 42212-

Property No.: 31199010032

Location: Trigg Co. adjoining the city of Canton, KY on the waters of Hopson Creek

Status: Excess

Comment: 8.24 acres; steep and wooded

Tract 4502

Barkley Lake, Kentucky and Tennessee

Canton Co: Trigg KY 42212-

Property No.: 31199010033

Location: 3½ miles in a southerly direction from Canton, KY.

Status: Excess

Comment: 4.26 acres; steep and wooded

Tract 4611

Barkley Lake, Kentucky and Tennessee

Canton Co: Trigg KY 42212-

Property No.: 31199010034

Location: 5 miles south of Canton, KY.

Status: Excess

Comment: 10.51 acres; steep and wooded; no utilities

Tract 4619

Barkley Lake, Kentucky and Tennessee

Canton Co: Trigg KY 42212-

Property No.: 31199010035

Location: 4½ miles south from Canton, KY.

Status: Excess

Comment: 2.02 acres; steep and wooded; no utilities

Tract 4817

Barkley Lake, Kentucky and Tennessee

Canton Co: Trigg KY 42212-

Property No.: 31199010036

Location: 6½ miles south of Canton, KY

Status: Excess

Comment: 1.75 acres; wooded

Tract 1217

Barkley Lake, Kentucky and Tennessee

Eddyville Co: Lyon KY 42030-

Property No.: 31199010042

Location: On the north side of the Illinois Central Railroad

Status: Excess

Comment: 5.80 acres; steep and wooded

Tract 1906

Barkley Lake, Kentucky and Tennessee

Eddyville Co: Lyon KY 42030-

Property No.: 31199010044

Location: Approximately 4 miles east of Eddyville, KY.

Status: Excess

Comment: 25.86 acres; rolling steep and partially wooded; no utilities

Tract 1907

Barkley Lake, Kentucky and Tennessee

Eddyville Co: Lyon KY 42038-

Property No.: 31199010045

Location: On the waters of Pilfen Creek, 4 miles east of Eddyville, KY.

Status: Excess

Comment: 8.71 acres; rolling steep and wooded; no utilities

Tract 2001 #1

Barkley Lake, Kentucky and Tennessee

Eddyville Co: Lyon KY 42030-

Property No.: 31199010046

Location: Approximately 4½ miles east of Eddyville, KY.

Status: Excess

Comment: 47.42 acres; steep and wooded; no utilities

Tract 2001 #2

Barkley Lake, Kentucky and Tennessee

Eddyville Co: Lyon KY 42030-

Property No.: 31199010047

Location: Approximately 4½ miles east of Eddyville, KY.

Status: Excess

Comment: 8.64 acres; steep and wooded; no utilities

Tract 2005

Barkley Lake, Kentucky and Tennessee

Eddyville Co: Lyon KY 42030-

Property No.: 31199010048

Location: Approximately 5½ miles east of Eddyville, KY.

Status: Excess

Comment: 4.62 acres; steep and wooded; no utilities

Tract 2307

Barkley Lake, Kentucky and Tennessee

Eddyville Co: Lyon KY 42030-

Property No.: 31199010049

Location: Approximately 7½ miles southeasterly of Eddyville, KY.

Status: Excess

Comment: 11.43 acres; steep; rolling and wooded; no utilities

Tract 2403

Barkley Lake, Kentucky and Tennessee

Eddyville Co: Lyon KY 42030-

Property No.: 31199010050

Location: 7 miles southeasterly of Eddyville, KY.

Status: Excess

Comment: 1.56 acres; steep and wooded; no utilities

Tract 2504

Barkley Lake, Kentucky and Tennessee

Eddyville Co: Lyon KY 42030-

Property No.: 31199010051

Location: 9 miles southeasterly of Eddyville, KY.

Status: Excess

Comment: 24.46 acres; steep and wooded; no utilities

Tract 214

Barkley Lake, Kentucky and Tennessee

Grand Rivers Co: Lyon KY 42045-

Property No.: 31199010052

Location: South of the Illinois Central Railroad, 1 mile east of the Cumberland River

Status: Excess

Comment: 5.5 acres; wooded; no utilities

Tract 215

Barkley Lake, Kentucky and Tennessee

Grand Rivers Co: Lyon KY 42045-

Property No.: 31199010053

Location: 5 miles southwest of Kuttawa

Status: Excess

Comment: 1.40 acres; wooded; no utilities

Tract 241

Barkley Lake, Kentucky and Tennessee

Grand Rivers Co: Lyon KY 42045-

Property No.: 31199010054

Location: Old Henson Ferry Road, 6 miles west of Kuttawa, KY.

Status: Excess

Comment: 1.26 acres; steep and wooded; no utilities

.

Tracts 306, 311, 315 and 325

Barkley Lake, Kentucky and Tennessee

Grand Rivers Co: Lyon KY 42045-

Property No.: 31199010055

Location: 2.5 miles southwest of Kuttawa, KY on the waters of Cypress Creek.

Status: Excess

Comment: 38.77 acres; steep and wooded; no utilities

Tracts 2305, 2306, and 2400-1

Barkley Lake, Kentucky and Tennessee

Eddyville Co: Lyon KY 42030-

Property No.: 31199010056

Location: 6½ miles southeasterly of Eddyville, KY.

Status: Excess

Comment: 97.66 acres; steep rolling and wooded; no utilities

Tracts 5203 and 5204

Barkley Lake, Kentucky and Tennessee

Linton Co: Trigg KY 42212-

Property No.: 31199010058

Location: Village of Linton, KY state highway 1254.

Status: Excess

Comment: 0.93 acres; rolling, partially wooded; no utilities

Tract 5240

Barkley Lake, Kentucky and Tennessee

Linton Co: Trigg KY 42212-

Property No.: 31199010059

Location: 1 mile northwest of Linton, KY.

Status: Excess

Comment: 2.26 acres; steep and wooded; no utilities

Tract 4628

Barkley Lake, Kentucky and Tennessee

Canton Co: Trigg KY 42212-

Property No.: 31199011621

Location: 4½ miles south from Canton, KY.

Status: Excess

Comment: 3.71 acres; steep and wooded; subject to utility easements

Tract 4619-B

Barkley Lake, Kentucky and Tennessee

Canton Co: Trigg KY 42212-

Property No.: 31199011622

Location: 4½ miles south from Canton, KY.

Status: Excess

Comment: 1.73 acres; steep and wooded; subject to utility easements

Tract 2403-B

Barkley Lake, Kentucky and Tennessee

Eddyville Co: Lyon KY 42038-

Property No.: 31199011623

Location: 7 miles southeasterly from Eddyville, KY.

Status: Unutilized

Comment: 0.70 acres, wooded; subject to utility easements

Tract 241-B

Barkley Lake, Kentucky and Tennessee

Grand Rivers Co: Lyon KY 42045-

Property No.: 31199011624

Location: South of Old Henson Ferry Road, 6 miles west of Kuttawa, KY.

Status: Excess

Comment: 11.16 acres; steep and wooded; subject to utility easements

Tracts 212 and 237

Barkley Lake, Kentucky and Tennessee

Grand Rivers Co: Lyon KY 42045-

Property No.: 31199011625

Location: Old Henson Ferry Road, 6 miles west of Kuttawa, KY.

Status: Excess

Comment: 2.44 acres; steep and wooded; subject to utility easements

Tract 215-B

Barkley Lake, Kentucky and Tennessee

Grand Rivers Co: Lyon KY 42045-

Property No.: 31199011626

Location: 5 miles southwest of Kuttawa

Status: Excess

Comment: 1.00 acres; wooded; subject to utility easements

Tract 233

Barkley Lake, Kentucky and Tennessee

Grand Rivers Co: Lyon KY 42045-

Property No.: 31199011627

Location: 5 miles southwest of Kuttawa

Status: Excess

Comment: 1.00 acres; wooded; subject to utility easements

Tract N-819

Dale Hollow Lake & Dam Project

Illwill Creek, Hwy 90

Hobart Co: Clinton KY 42601-

Property No.: 31199140009

Status: Underutilized

Comment: 91 acres, most recent use—hunting, subject to existing easements

Portion of Lock & Dam No. 1

Kentucky River

Carrolton Co: Carroll KY 41008-0305

Property No.: 31199320003

Status: Unutilized

Comment: approx. 3.5 acres (sloping), access monitored

Tract No. F-610

Buckhorn Lake Project

Buckhorn KY 41721-

Property No.: 31200240001

Status: Unutilized

Comment: 0.64 acres, encroachments, most recent use—flood control purposes

Louisiana

Land

Wallace Lake Dam and Reservoir

Shreveport Co: Caddo LA 71103-

Property No.: 31199011009

Status: Unutilized

Comment: 10.81 acres; wildlife/forestry; no utilities

Bayou Bodcau Dam and Reservoir

Haughton Co: Caddo LA 71037-9707

Property No.: 31199011010

Location: 35 miles Northeast of Shreveport, La.

Status: Unutilized

Comment: 203 acres; wildlife/forestry; no utilities

Mississippi

Land

Parcel 7

Grenada Lake

Sections 22, 23, T24N

Grenada Co: Yalobusha MS 38901-0903

Property No.: 31199011019

Status: Underutilized

Comment: 100 acres; no utilities; intermittently used under lease—expires 1994

Parcel 8

Grenada Lake

Section 20, T24N

Grenada Co: Yalobusha MS 38901-0903

Property No.: 31199011020

Status: Underutilized

Comment: 30 acres; no utilities; intermittently used under lease—expires 1994

Parcel 9

Grenada Lake

Section 20, T24N, R7E

Grenada Co: Yalobusha MS 38901-0903

Property No.: 31199011021

Status: Underutilized

Comment: 23 acres; no utilities; intermittently used under lease—expires 1994

Parcel 10

Grenada Lake

Sections 16, 17, 18 T24N R8E

Grenada Co: Calhoun MS 38901-0903

Property No.: 31199011022

Status: Underutilized

Comment: 490 acres; no utilities; intermittently used under lease—expires 1994

Parcel 2

Grenada Lake

Section 20 and T23N, R5E

Grenada Co: Grenada MS 38901-0903

Property No.: 31199011023

Status: Underutilized

Comment: 60 acres; no utilities; most recent use—wildlife and forestry management

Parcel 3

Grenada Lake

Section 4, T23N, R5E

Grenada Co: Yalobusha MS 38901-0903

Property No.: 31199011024

Status: Underutilized

Comment: 120 acres; no utilities; most recent use—wildlife and forestry management; (13.5 acres/agriculture lease)

Parcel 4

Grenada Lake

Section 2 and 3, T23N, R5E

Grenada Co: Yalobusha MS 38901-0903

Property No.: 31199011025

Status: Underutilized

Comment: 60 acres; no utilities; most recent use—wildlife and forestry management

Parcel 5

Grenada Lake

Section 7, T24N, R6E

Grenada Co: Yalobusha MS 38901-0903

Property No.: 31199011026

Status: Underutilized

Comment: 20 acres; no utilities; most recent use—wildlife and forestry management; (14 acres/agriculture lease)

Parcel 6

Grenada Lake

Section 9, T24N, R6E

Grenada Co: Yalobusha MS 38903-0903

Property No.: 31199011027

Status: Underutilized

Comment: 80 acres; no utilities; most recent use—wildlife and forestry management

Parcel 11

Grenada Lake

Section 20, T24N, R8E

Grenada Co: Calhoun MS 38901-0903

Property No.: 31199011028

Status: Underutilized

Comment: 30 acres; no utilities; most recent use—wildlife and forestry management

Parcel 12

Grenada Lake

Section 25, T24N, R7E

Grenada Co: Yalobusha MS 38390-10903

Property No.: 31199011029

Status: Underutilized

Comment: 30 acres; no utilities; most recent use—wildlife and forestry management

Parcel 13

Grenada Lake

Section 34, T24N, R7E

Grenada Co: Yalobusha MS 38903-0903

Property No.: 31199011030

Status: Underutilized

Comment: 35 acres; no utilities; most recent use—wildlife and forestry management; (11 acres/agriculture lease)

Parcel 14

Grenada Lake

Section 3, T23N, R6E

Grenada Co: Yalobusha MS 38901-0903

Property No.: 31199011031

Status: Underutilized

Comment: 15 acres; no utilities; most recent use—wildlife and forestry management

Parcel 15

Grenada Lake

Section 4, T24N, R6E

Grenada Co: Yalobusha MS 38901-0903

Property No.: 31199011032

Status: Underutilized

Comment: 40 acres; no utilities; most recent use—wildlife and forestry management

Parcel 16

Grenada Lake

Section 9, T23N, R6E

Grenada Co: Yalobusha MS 38901-0903

Property No.: 31199011033

Status: Underutilized

Comment: 70 acres; no utilities; most recent use—wildlife and forestry management

Parcel 17

Grenada Lake

Section 17, T23N, R7E

Grenada Co: Grenada MS 28901-0903

Property No.: 31199011034

Status: Underutilized

Comment: 35 acres; no utilities; most recent use—wildlife and forestry management

Parcel 18

Grenada Lake

Section 22, T23N, R7E

Grenada Co: Grenada MS 28902-0903

Property No.: 31199011035

Status: Underutilized

Comment: 10 acres; no utilities; most recent use—wildlife and forestry management

Parcel 19

Grenada Lake

Section 9, T22N, R7E

Grenada Co: Grenada MS 38901-0903

Property No.: 31199011036

Status: Underutilized

Comment: 20 acres; no utilities; most recent use—wildlife and forestry management

Missouri

Land

Harry S Truman Dam & Reservoir

Warsaw Co: Benton MO 65355-

Property No.: 31199030014

Location: Triangular shaped parcel southwest of access road “B”, part of Bledsoe Ferry Park Tract 150.

Status: Underutilized

Comment: 1.7 acres; potential utilities

Montana

Building

Bldg. 1

Butte Natl Guard

Butte Co: Silverbow MT 59701-

Property No.: 31200040010

Status: Unutilized

Comment: 22799 sq. ft., presence of asbestos, most recent use—cold storage, off-site use only

Bldg. 2

Butte Natl Guard

Butte Co: Silverbow MT 59701-

Property No.: 31200040011

Status: Unutilized

Comment: 3292 sq. ft., most recent use—cold storage, off-site use only

Bldg. 3

Butte Natl Guard

Butte Co: Silverbow MT 59701-

Property No.: 31200040012

Status: Unutilized

Comment: 964 sq. ft., most recent use—cold storage, off-site use only

Bldg. 4

Butte Natl Guard

Butte Co: Silverbow MT 59701-

Property No.: 31200040013

Status: Unutilized

Comment: 72 sq. ft., most recent use—cold storage, off-site use only

Bldg. 5

Butte Natl Guard

Butte Co: Silverbow MT 59701-

Property No.: 31200040014

Status: Unutilized

Comment: 1286 sq. ft., most recent use—cold storage, off-site use only

Ohio

Building

Barker Historic House

Willow Island Locks and Dam

Newport Co: Washington OH 45768-9801

Property No.: 31199120018

Location: Located at lock site, downstream of lock and dam structure

Status: Unutilized

Comment: 1600 sq. ft. bldg. with ½ acre of land, 2 story brick frame, needs rehab, on Natl Register of Historic Places, no utilities, off-site use only

Structure

Deer Creek Lake

Mt. Sterling Co: Pickaway OH 43143-

Property No.: 31200530001

Status: Unutilized

Comment: 1321 sq. ft., brick, off-site use only

Residence 5037 Deer Road

Bowerston Co: Carroll OH 44695-

Property No.: 31200540007

Status: Unutilized

Comment: 2412 sq. ft., brick, needs repair, presence of asbestos, off-site use only

Residence

28700 Milarcik Road

Tippecanoe Co: Harrison OH 44699-

Property No.: 31200540008

Status: Unutilized

Comment: 2412 sq. ft., brick/masonry, off-site use only

Structure

21897 Deer Creek Road

Mt. Sterling Co: Pickaway OH 43143-

Property No.: 31200540009

Status: Unutilized

Comment: 1321 sq. ft., brick, off-site use only

Oklahoma

Land

Pine Creek Lake

Section 27

(See County) Co: McCurtain OK

Property No.: 31199010923

Status: Unutilized

Comment: 3 acres; no utilities; subject to right of way for Oklahoma State Highway 3

Pennsylvania

Building

Mahoning Creek Reservoir

New Bethlehem Co: Armstrong PA 16242-

Property No.: 31199210008

Status: Unutilized

Comment: 1015 sq. ft., 2 story brick residence, off-site use only

Dwelling

Lock & Dam 6, Allegheny River, 1260 River Rd.

Freeport Co: Armstrong PA 16229-2023

Property No.: 31199620008

Status: Unutilized

Comment: 2652 sq. ft., 3-story brick house, in close proximity to Lock and Dam, available for interim use for nonresidential purposes

Govt. Dwelling

Youghiogheny River Lake

Confluence Co: Fayette PA 15424-9103

Property No.: 31199640002

Status: Unutilized

Comment: 1421 sq. ft., 2-story brick w/basement, most recent use—residential

Dwelling

Lock & Dam 4, Allegheny River

Natrona Co: Allegheny PA 15065-2609

Property No.: 31199710009

Status: Unutilized

Comment: 1664 sq. ft., 2-story brick residence, needs repair, off-site use only

Dwelling #1

Crooked Creek Lake

Ford City Co: Armstrong PA 16226-8815

Property No.: 31199740002

Status: Excess

Comment: 2030 sq. ft., most recent use—residential, good condition, off-site use only

Dwelling #2

Crooked Creek Lake

Ford City Co: Armstrong PA 16226-8815

Property No.: 31199740003

Status: Excess

Comment: 3045 sq. ft., most recent use—residential, good condition, off-site use only

Govt Dwelling

East Branch Lake

Wilcox Co: Elk PA 15870-9709

Property No.: 31199740005

Status: Underutilized

Comment: approx. 5299 sq. ft., 1-story, most recent use—residence, off-site use only

Dwelling #1

Loyalhanna Lake

Saltsburg Co: Westmoreland PA 15681-9302

Property No.: 31199740006

Status: Excess

Comment: 1996 sq. ft., most recent use—residential, good condition, off-site use only

Dwelling #2

Loyalhanna Lake

Saltsburg Co: Westmoreland PA 15681-9302

Property No.: 31199740007

Status: Excess

Comment: 1996 sq. ft., most recent use—residential, good condition, off-site use only

Dwelling #1

Woodcock Creek Lake

Saegertown Co: Crawford PA 16433-0629

Property No.: 31199740008

Status: Excess

Comment: 2106 sq. ft., most recent use—residential, good condition, off-site use only

Dwelling #2

Lock & Dam 6, 1260 River Road

Freeport Co: Armstrong PA 16229-2023

Property No.: 31199740009

Status: Excess

Comment: 2652 sq. ft., most recent use—residential, good condition, off-site use only

Dwelling #2

Youghiogheny River Lake

Confluence Co: Fayette PA 15424-9103

Property No.: 31199830003

Status: Excess

Comment: 1421 sq. ft., 2-story + basement, most recent use—residential

Residence A

2045 Pohopoco Drive

Lehighton Co: Carbon PA 18235-

Property No.: 31200410007

Status: Unutilized

Comment: 1200 sq. ft., presence of asbestos, off-site use only

Land

Mahoning Creek Lake

New Bethlehem Co: Armstrong PA 16242-9603

Property No.: 31199010018

Location: Route 28 north to Belknap, Road #4

Status: Excess

Comment: 2.58 acres; steep and densely wooded

Tracts 610, 611, 612

Shenango River Lake

Sharpsville Co: Mercer PA 16150-

Property No.: 31199011001

Location: I-79 North, I-80 West, Exit Sharon. R18 North 4 miles, left on R518, right on Mercer Avenue.

Status: Excess

Comment: 24.09 acres; subject to flowage easement

Tracts L24, L26

Crooked Creek Lake

Co: Armstrong PA 03051-

Property No.: 31199011011

Location: Left bank—55 miles downstream of dam.

Status: Unutilized

Comment: 7.59 acres; potential for utilities.

Portion of Tract L-21A

Crooked Creek Lake, LR 03051

Ford City Co: Armstrong PA 16226-

Property No.: 31199430012

Status: Unutilized

Comment: Approximately 1.72 acres of undeveloped land, subject to gas rights

Tennessee

Land

Tract 6827

Barkley Lake

Dover Co: Stewart TN 37058-

Property No.: 31199010927

Location: 2½ miles west of Dover, TN.

Status: Excess

Comment: .57 acres; subject to existing easements.

Tracts 6002-2 and 6010

Barkley Lake

Dover Co: Stewart TN 37058-

Property No.: 31199010928

Location: 3½ miles south of village of Tabaccoport.

Status: Excess

Comment: 100.86 acres; subject to existing easements

Tract 11516

Barkley Lake

Ashland City Co: Dickson TN 37015-

Property No.: 31199010929

Location: ½ mile downstream from Cheatham Dam

Status: Excess

Comment: 26.25 acres; subject to existing easements

Tract 2319

J. Percy Priest Dam and Resorvoir

Murfreesboro Co: Rutherford TN 37130-

Property No.: 31199010930

Location: West of Buckeye Bottom Road

Status: Excess

Comment: 14.48 acres; subject to existing easements

Tract 2227

J. Percy Priest Dam and Resorvoir

Murfreesboro Co: Rutherford TN 37130-

Property No.: 31199010931

Location: Old Jefferson Pike

Status: Excess

Comment: 2.27 acres; subject to existing easements

Tract 2107

J. Percy Priest Dam and Reservoir

Murfreesboro Co: Rutherford TN 37130-

Property No.: 31199010932

Location: Across Fall Creek near Fall Creek camping area.

Status: Excess

Comment: 14.85 acres; subject to existing easements

Tracts 2601, 2602, 2603, 2604

Cordell Hull Lake and Dam Project

Doe Row Creek

Gainesboro Co: Jackson TN 38562-

Property No.: 31199010933

Location: TN Highway 56

Status: Unutilized

Comment: 11 acres; subject to existing easements

Tract 1911

J. Percy Priest Dam and Reservoir

Murfreesboro Co: Rutherford TN 37130-

Property No.: 31199010934

Location: East of Lamar Road

Status: Excess

Comment: 6.92 acres; subject to existing easements

Tract 7206

Barkley Lake

Dover Co: Stewart TN 37058-

Property No.: 31199010936

Location: 2½ miles SE of Dover, TN.

Status: Excess

Comment: 10.15 acres; subject to existing easements

Tracts 8813, 8814

Barkley Lake

Cumberland Co: Stewart TN 37050-

Property No.: 31199010937

Location: 1½ miles East of Cumberland City.

Status: Excess

Comment: 96 acres; subject to existing easements

Tract 8911

Barkley Lake

Cumberland City Co: Montgomery TN 37050-

Property No.: 31199010938

Location: 4 miles east of Cumberland City.

Status: Excess

Comment: 7.7 acres; subject to existing easements

Tract 11503

Barkley Lake

Ashland City Co: Cheatham TN 37015-

Property No.: 31199010939

Location: 2 miles downstream from Cheatham Dam

Status: Excess

Comment: 1.1 acres; subject to existing easements

Tracts 11523, 11524

Barkley Lake

Ashland City Co: Cheatham TN 37015-

Property No.: 31199010940

Location: 2½ miles downstream from Cheatham Dam.

Status: Excess

Comment: 19.5 acres; subject to existing easements

Tract 6410

Barkley Lake

Bumpus Mills Co: Stewart TN 37028-

Property No.: 31199010941

Location: 4½ miles SW of Bumpus Mills.

Status: Excess

Comment: 17 acres; subject to existing easements

Tract 9707

Barkley Lake

Palmyer Co: Montgomery TN 37142-

Property No.: 31199010943

Location: 3 miles NE of Palmyer, TN. Highway 149

Status: Excess

Comment: 6.6 acres; subject to existing easements

Tract 6949

Barkley Lake

Dover Co: Stewart TN 37058-

Property No.: 31199010944

Location: 1½ miles SE of Dover, TN.

Status: Excess

Comment: 29.67 acres; subject to existing easements

Tracts 6005 and 6017

Barkley Lake

Dover Co: Stewart TN 37058-

Property No.: 31199011173

Location: 3 miles south of Village of Tobaccoport.

Status: Excess

Comment: 5 acres; subject to existing easements

Tracts K-1191, K-1135

Old Hickory Lock and Dam

Hartsville Co: Trousdale TN 37074-

Property No.: 31199130007

Status: Underutilized

Comment: 54 acres, (portion in floodway), most recent use—recreation

Tract A-102

Dale Hollow Lake & Dam Project

Canoe Ridge, State Hwy 52

Celina Co: Clay TN 38551-

Property No.: 31199140006

Status: Underutilized

Comment: 351 acres, most recent use—hunting, subject to existing easements

Tract A-120

Dale Hollow Lake & Dam Project

Swann Ridge, State Hwy No. 53

Celina Co: Clay TN 38551-

Property No.: 31199140007

Status: Underutilized

Comment: 883 acres, most recent use—hunting, subject to existing easements

Tract D-185

Dale Hollow Lake & Dam Project

Ashburn Creek, Hwy No. 53

Livingston Co: Clay TN 38570-

Property No.: 31199140010

Status: Underutilized

Comment: 97 acres, most recent use—hunting, subject to existing easements

Virginia

Building

Metal Bldg.

John H. Kerr Dam & Reservoir

Co: Boydton VA

Property No.: 31199620009

Status: Excess

Comment: 800 sq. ft., most recent use—storage, off-site use only

Commerce

North Carolina

Building

Caretaker's Residence

101 Pivers Island Road

Beaufort Co: Carteret NC 28506-

Property No.: 27200510001

Status: Excess

Comment: 1900 sq. ft., off-site use only

Energy

Idaho

Building

Bldg. CF603

Idaho Natl Eng & Env Lab

Scoville Co: Butte ID 83415-

Property No.: 41200020004

Status: Excess

Comment: 15,005 sq ft. cinder block, presence of asbestos/lead paint, major rehab, off-site use only

GSA

California

Building

Indian Creek Tullis Property

Hwy 299

Douglas City Co: Trinity CA 96024-0162

Property No.: 54200540017

Status: Surplus

Comment: 919 sq. ft., residential bldg. and two garage/storage bldgs., off-site use only GSA Number : 9-I-CA-1652

Idaho

Land

2.3 acre parcel

25822 Middleton Road

Middleton Co: Canyon ID 83644-

Property No.: 54200540006

Status: Excess

Comment: 2.3 acres

GSA Number: 9-I-ID-558

Illinois

Building

SSA Federal Building

1530 4th Street

Peru Co: IL 61354-

Property No.: 54200540012

Status: Excess

Comment: 6007 sq. ft., most recent use—office/storage

GSA Number : 1-G-IL-732

Indiana

Land

Tanner's Creek

Access Site off Rt. 50

Lawrenceburg Co: IN

Property No.: 54200430022

Status: Excess

Comment: 8.45 acres, boat launch, flowage easement

GSA Number : 1-D-IN-571-C

Michigan

Land

Lots 2-6

Lawndale Park Addition

Ludington Co: Mason MI 49431-

Property No.: 54200540007

Status: Excess

Comment: 0.81 acre—undeveloped

GSA Number : 1-G-MI-537-2

Minnesota

Building

Lakes Project Office

307 Main Street East

Remer Co: Cass MN

Property No.: 54200410015

Status: Surplus

Comment: Office bldg/oil shed/maintenance garage, minor water damage

GSA Number: 5-D-MN-548-A

New Mexico

Building

Federal Building

517 Gold Avenue, SW

Albuquerque Co: Bernalillo NM 87102-

Property No.: 54200540005

Status: Excess

Comment: 273,027 sq. ft., 8 floors + basement, top two floors structurally unsafe to occupy, 3 additional floors do not meet local code requirements for occupancy, presence of asbestos/lead paint

GSA Number: 7-G-NM-0588

Ohio

Land

Plats 9-72, 9-73

Davis Street

Niles Co: OH 44446-

Property No.: 54200530007

Status: Excess

Comment: 12,082 sq. ft., narrow right of way, no utilities

GSA Number: 1-1-OH-826

Interior

California

Building

Redwoods Office Bldg.

8038 Chilnualna Falls Road

Yosemite Natl Park

Wawona Co: Mariposa CA 95389-

Property No.: 61200530005

Status: Unutilized

Comment: 1746 sq. ft., possible asbestos/lead paint, off-site use only

Redwoods Bldg.

8038 Chilnualna Falls Road

Yosemite Natl Park

Wawona Co: Mariposa CA 95389-

Property No.: 61200530006

Status: Unutilized

Comment: 78 sq. ft., possible asbestos/lead paint, off-site use only

Idaho

Building

Bldg. 79

Section 9

Portion of Tract C

Paul Co: Jeromo ID 83347-

Property No.: 61200520012

Status: Unutilized

Comment: 832 sq. ft., presence of asbestos/lead paint, most recent use—residence, off-site use only

Maryland

Building

F. Boy Scouts Shed

Tract 403-48

Boonsboro Co: Washington MD

Property No.: 61200540008

Status: Excess

Comment: 378 sq. ft., needs rehab, off-site use only

Former Sera House

Tract 405-66

Middletown Co: Frederick MD 21769-

Property No.: 61200540009

Status: Excess

Comment: 1480 sq. ft. residence, needs rehab, off-site use only

Former Sera Shed

Tract 405-66

Middletown Co: Frederick MD 21769-

Property No.: 61200540010

Status: Excess

Comment: 80 sq. ft., needs rehab, off-site use only

New Jersey

Building

Former Mussina House

Tract 307-21

Wantage Co: Sussex NJ

Property No.: 61200540005

Status: Excess

Comment: 1747 sq. ft. residence, needs rehab, off-site use only

Former Mussina Garage

Tract 307-21

Wantage Co: Sussex NJ

Property No.: 61200540006

Status: Excess

Comment: 730 sq. ft., needs rehab, off-site use only

Former Mussina Shed

Tract 307-21

Wantage Co: Sussex NJ

Property No.: 61200540007

Status: Excess

Comment: 480 sq. ft., needs rehab, off-site use only

New York

Building

F. Baron-Sousa House

Tract 284-43

Warwick Co: Orange NY

Property No.: 61200540002

Status: Excess

Comment: 1122 sq. ft. residence, needs rehab, presence of asbestos, off-site use only

Former Fernau House

Tract 284-45

Warwick Co: Orange NY

Property No.: 61200540003

Status: Excess

Comment: 2963 sq. ft. residence, needs rehab, presence of asbestos, off-site use only

Former Fernau Garage

Tract 284-45

Warwick Co: Orange NY

Property No.: 61200540004

Status: Excess

Comment: 840 sq. ft., needs rehab, off-site use only

Texas

Building

Water Tower

Lake Meredith Natl Rec Area

Fritch Co: Hutchinson TX 79036-

Property No.: 61200510002

Status: Unutilized

Comment: off-site use only

Virginia

Building

Former C. Funk House

Appalachian Natl Scenic Trail

Rural Retreat Co: Smyth VA

Property No.: 61200530007

Status: Excess

Comment: 1144 sq. ft., needs rehab, presence of asbestos, off-site use only

Former Repass House

Appalachian Natl Scenic Trail

Rural Retreat Co: Smyth VA

Property No.: 61200530008

Status: Excess

Comment: 2008 sq. ft., needs rehab, presence of asbestos, off-site use only

Former Hoover House

Appalachian Natl Scenic Trail

Pearisburg Co: Giles VA

Property No.: 61200530009

Status: Excess

Comment: 996 sq. ft., needs rehab, presence of lead paint, off-site use only

Former Hoover Shed

Appalachian Natl Scenic Trail

Pearisburg Co: Giles VA

Property No.: 61200530010

Status: Excess

Comment: 128 sq. ft., needs rehab, presence of lead paint, off-site use only

Former Morse Cabin

Appalachian Natl Scenic Trail

Pearisburg Co: Giles VA

Property No.: 61200530011

Status: Excess

Comment: 792 sq. ft., needs rehab, off-site use only

Former Morse House

Appalachian Natl Scenic Trail

Pearisburg Co: Giles VA

Property No.: 61200530012

Status: Excess

Comment: 2025 sq. ft., needs rehab, presence of asbestos, off-site use only

Navy

Massachusetts

Building

Bldgs. 3263-3266

Westover RAFB

Outer Road

Chicopee Co: MA 01022-

Property No.: 77200520002

Status: Excess

Comment: 3952 sq. ft., military family housing, needs rehab, off-site use only

Bldgs. 3200 thru 3214

Westover RAFB

Cowan Ave/Goodwin St

Chicopee Co: MA

Property No.: 77200520003

Status: Excess

Comment: various sq .ft., needs rehab, most recent use—admin., off-site use only

New Hampshire

Building

Bldg. 288

Naval Shipyard

Portsmouth Co: NH 03804-5000

Property No.: 77200510018

Status: Excess

Comment: 3600 sq. ft., presence of asbestos/lead paint, most recent use—ship filters shop, off-site use only

Bldg. 344

Naval Shipyard

Portsmouth Co: NH 03804-5000

Property No.: 77200510019

Status: Excess

Comment: 1406 sq. ft., presence of asbestos/lead paint, most recent use—riggers shop, off-site use only

Bldg. 346

Naval Shipyard

Portsmouth Co: NH 03804-5000

Property No.: 77200510020

Status: Excess

Comment: 545 sq. ft., presence of asbestos/lead paint, most recent use—locker bldg., off-site use only

Bldg. M-17

Naval Shipyard

Portsmouth Co: NH 03804-5000

Property No.: 77200510021

Status: Excess

Comment: 760 sq. ft., presence of asbestos/lead paint, most recent use—garage, off-site use only

New York

Building

Building 1

Scotia Navy Depot

Scotia Co: Schenectady NY 12302-9460

Property No.: 77200440021

Status: Excess

Comment: 39,554 sq. ft., needs extensive repairs, presence of asbestos/lead paint, most recent use—office

VA

Alabama

Land

VA Medical Center

VAMC

Tuskegee Co: Macon AL 36083-

Property No.: 97199010053

Status: Underutilized

Comment: 40 acres, buffer to VA Medical Center, potential utilities, undeveloped

California

Land

Land

4150 Clement Street

San Francisco Co: San Francisco CA 94121-

Property No.: 97199240001

Status: Underutilized

Comment: 4 acres; landslide area.

Colorado

Building

Bldg. 2

VAMC

2121 North Avenue

Grand Junction Co: Mesa CO 81501-

Property No.: 97200430001

Status: Unutilized

Comment: 3298 sq. ft., needs major rehab, presence of asbestos/lead paint

Bldg. 3

VAMC

2121 North Avenue

Grand Junction Co: Mesa CO 81501-

Property No.: 97200430002

Status: Unutilized

Comment: 7275 sq. ft., needs major rehab, presence of asbestos/lead paint

Indiana

Building

Bldg. 105, VAMC

East 38th Street

Marion Co: Grant IN 46952-

Property No.: 97199230006

Status: Excess

Comment: 310 sq. ft., 1 story stone structure, no sanitary or heating facilities, Natl Register of Historic Places

Bldg. 140, VAMC

East 38th Street

Marion Co: Grant IN 46952-

Property No.: 97199230007

Status: Excess

Comment: 60 sq. ft., concrete block bldg., most recent use—trash house

Bldg. 7

VA Northern Indiana Health Care System

Marion Campus, 1700 East 38th Street

Marion Co: Grant IN 46953-

Property No.: 97199810001

Status: Underutilized

Comment: 16,864 sq. ft., presence of asbestos, most recent use—psychiatric ward, National Register of Historic Places

Bldg. 10

VA Northern Indiana Health Care System

Marion Campus, 1700 East 38th Street

Marion Co: Grant IN 46953-

Property No.: 97199810002

Status: Underutilized

Comment: 16,361 sq. ft., presence of asbestos, most recent use—psychiatric ward, National Register of Historic Places

Bldg. 11

VA Northern Indiana Health Care System

Marion Campus, 1700 East 38th Street

Marion Co: Grant IN 46953-

Property No.: 97199810003

Status: Underutilized

Comment: 16,361 sq. ft., presence of asbestos, most recent use—psychiatric ward, National Register of Historic Places

Bldg. 18

VA Northern Indiana Health Care System

Marion Campus, 1700 East 38th Street

Marion Co: Grant IN 46953-

Property No.: 97199810004

Status: Underutilized

Comment: 13,802 sq. ft., presence of asbestos, most recent use—psychiatric ward, National Register of Historic Places

Bldg. 25

VA Northern Indiana Health Care System

Marion Campus, 1700 East 38th Street

Marion Co: Grant IN 46953-

Property No.: 97199810005

Status: Unutilized

Comment: 32,892 sq. ft., presence of asbestos, most recent use—psychiatric ward, National Register of Historic Places

Bldg. 1

N. Indiana Health Care System

Marion Co: Grant IN 46952-

Property No.: 97200310001

Status: Unutilized

Comment: 20,287 sq. ft., needs extensive repairs, presence of asbestos, most recent use—patient ward

Bldg. 3

N. Indiana Health Care System

Marion Co: Grant IN 46952-

Property No.: 97200310002

Status: Unutilized

Comment: 20,550 sq. ft., needs extensive repairs, presence of asbestos, most recent use—patient ward

Bldg. 4

N. Indiana Health Care System

Marion Co: Grant IN 46952-

Property No.: 97200310003

Status: Unutilized

Comment: 20,550 sq. ft., needs extensive repairs, presence of asbestos, most recent use—patient ward

Bldg. 13

N. Indiana Health Care System

Marion Co: Grant IN 46952-

Property No.: 97200310004

Status: Unutilized

Comment: 8971 sq. ft., needs extensive repairs, presence of asbestos, most recent use—office

Bldg. 19

N. Indiana Health Care System

Marion Co: Grant IN 46952-

Property No.: 97200310005

Status: Unutilized

Comment: 12,237 sq. ft., needs extensive repairs, presence of asbestos, most recent use—office

Bldg. 20

N. Indiana Health Care System

Marion Co: Grant IN 46952-

Property No.: 97200310006

Status: Unutilized

Comment: 14,039 sq. ft., needs extensive repairs, presence of asbestos, most recent use—office/storage

Bldg. 42

N. Indiana Health Care System

Marion Co: Grant IN 46952-

Property No.: 97200310007

Status: Unutilized

Comment: 5025 sq. ft., needs extensive repairs, presence of asbestos, most recent use—office

Bldg. 60

N. Indiana Health Care System

Marion Co: Grant IN 46952-

Property No.: 97200310008

Status: Unutilized

Comment: 18,126 sq. ft., needs extensive repairs, presence of asbestos, most recent use—office

Bldg. 122

N. Indiana Health Care System

Marion Co: Grant IN 46952-

Property No.: 97200310009

Status: Unutilized

Comment: 37,135 sq. ft., needs extensive repairs, presence of asbestos, most recent use—dining hall/kitchen

Iowa

Land

40.66 acres

VA Medical Center

1515 West Pleasant St.

Knoxville Co: Marion IA 50138-

Property No.: 97199740002

Status: Unutilized

Comment: golf course, easement requirements

New York

Building

Bldg. 3

VA Medical Center

Batavia Co: Genesee NY 14020-

Property No.: 97200520001

Status: Unutilized

Comment: 5840 sq. ft., needs rehab, presence of asbestos, most recent use—offices, eligible for Natl Register of Historic Places

Ohio

Building

Bldg. 402

VA Medical Center

Dayton Co: Montgomery OH 45428-

Property No.: 97199920004

Status: Unutilized

Comment: 4 floors, potential utilities, needs major rehab, presence of asbestos/lead paint, historic

Texas

Land

Land

Olin E. Teague Veterans Center

1901 South 1st Street

Temple Co: Bell TX 76504-

Property No.: 97199010079

Status: Underutilized

Comment: 13 acres, portion formerly landfill, portion near flammable materials, railroad crosses property, potential utilities

Wisconsin

Building

Bldg. 8

VA Medical Center

County Highway E

Tomah Co: Monroe WI 54660-

Property No.: 97199010056

Status: Underutilized

Comment: 2200 sq. ft., 2 story wood frame, possible asbestos, potential utilities, structural deficiencies, needs rehab

Land

VA Medical Center

County Highway E

Tomah Co: Monroe WI 54660-

Property No.: 97199010054

Status: Underutilized

Comment: 12.4 acres, serves as buffer between center and private property, no utilities

Title V Properties Reported in Year 2005 Which Are Suitable and Unavailable

Air Force

Colorado

Building

Bldg. 100

La Junta Strategic Range

La Junta Co: Otero CO 81050-9501

Property No.: 18200230001

Status: Excess

Reason: Interest expressed

Bldg. 101

La Junta Strategic Range

La Junta Co: Otero CO 81050-9501

Property No.: 18200230002

Status: Excess

Reason: Interest expressed

Bldg. 102

La Junta Strategic Range

La Junta Co: Otero CO 81050-9501

Property No.: 18200230003

Status: Excess

Reason: Interest expressed

Bldg. 103

La Junta Strategic Range

La Junta Co: Otero CO 81050-9501

Property No.: 18200230004

Status: Excess

Reason: Interest expressed

Bldg. 104

La Junta Strategic Range

La Junta Co: Otero CO 81050-9501

Property No.: 18200230005

Status: Excess

Reason: Interest expressed

Bldg. 106

La Junta Strategic Range

La Junta Co: Otero CO 81050-9501

Property No.: 18200230006

Status: Excess

Reason: Interest expressed

New York

Building

Bldg. 1225

Verona Text Annex

Verona Co: Oneida NY 13478-

Property No.: 18200220014

Status: Unutilized

Reason: Held in trust

Bldg. 1226

Verona Test Annex

Verona Co: Oneida NY 13478-

Property No.: 18200220015

Status: Unutilized

Reason: Held in trust

Bldg. 1227

Verona Text Annex

Verona Co: Oneida NY 13478-

Property No.: 18200220016

Status: Unutilized

Reason: Held in trust

Bldg. 1231

Verona Test Annex

Verona Co: Oneida NY 13478-

Property No.: 18200220017

Status: Unutilized

Reason: Held in trust

Bldg. 1233

Verona Test Annex

Verona Co: Oneida NY 13478-

Property No.: 18200220018

Status: Unutilized

Reason: Held in trust

Bldgs. 1235, 1239

Verona Test Annex

Verona Co: Oneida NY 13478-

Property No.: 18200220019

Status: Unutilized

Reason: Held in trust

Bldg. 1241

Verona Test Annex

Verona Co: Oneida NY 13478-

Property No.: 18200220020

Status: Unutilized

Reason: Held in trust

Bldg. 1243

Verona Test Annex

Verona Co: Oneida NY 13478-

Property No.: 18200220021

Status: Unutilized

Reason: Held in trust

Bldg. 1245

Verona Test Annex

Verona Co: Oneida NY 13478-

Property No.: 18200220022

Status: Unutilized

Reason: Held in trust

Bldg. 1247

Verona Test Annex

Verona Co: Oneida NY 13478-

Property No.: 18200220023

Status: Unutilized

Reason: Held in trust

Bldg. 1250 + land

Verona Test Annex

Verona Co: Oneida NY 13478-

Property No.: 18200220024

Status: Unutilized

Reason: Held in trust

Bldg. 1253

Verona Test Annex

Verona Co: Oneida NY 13478-

Property No.: 18200220025

Status: Unutilized

Reason: Held in trust

Bldg. 1255

Verona Test Annex

Verona Co: Oneida NY 13478-

Property No.: 18200220026

Status: Unutilized

Reason: Held in trust

Bldg. 1261

Verona Test Annex

Verona Co: Oneida NY 13478-

Property No.: 18200220027

Status: Unutilized

Reason: Held in trust

Bldg. 1263

Verona Test Annex

Verona Co: Oneida NY 13478-

Property No.: 18200220028

Status: Unutilized

Reason: Held in trust

Bldgs. 1266, 1269

Verona Test Annex

Verona Co: Oneida NY 13478-

Property No.: 18200220029

Status: Unutilized

Reason: Held in trust

Bldg. 1271

Verona Test Annex

Verona Co: Oneida NY 13478-

Property No.: 18200220030

Status: Unutilized

Reason: Held in trust

Bldg. 1273

Verona Test Annex

Verona Co: Oneida NY 13478-

Property No.: 18200220031

Status: Unutilized

Reason: Held in trust

Bldg. 1277

Verona Test Annex

Verona Co: Oneida NY 13478-

Property No.: 18200220032

Status: Unutilized

Reason: Held in trust

Bldg. 1279

Verona Test Annex

Verona Co: Oneida NY 13478-

Property No.: 18200220033

Status: Unutilized

Reason: Held in trust

Bldg. 1285

Verona Test Annex

Verona Co: Oneida NY 13478-

Property No.: 18200220034

Status: Unutilized

Reason: Held in trust

Bldg. 1287

Verona Test Annex

Verona Co: Oneida NY 13478-

Property No.: 18200220035

Status: Unutilized

Reason: Held in trust

South Dakota

Land

Tract 133

Ellsworth AFB

Box Elder Co: Pennington SD 57706-

Property No.: 18200310004

Status: Unutilized

Reason: Special Legislation

Tract 67

Ellsworth AFB

Box Elder Co: Pennington SD 57706-

Property No.: 18200310005

Status: Unutilized

Reason: Mission purpose

Washington

Building

22 Bldgs./Geiger Heights

Fairchild AFB

Spokane WA 99224-

Property No.: 18200420001

Status: Unutilized

Reason: Mission effort

Bldg. 404/Geiger Heights

Fairchild AFB

Spokane WA 99224-

Property No.: 18200420002

Status: Unutilized

Reason: Mission effort

11 Bldgs./Geiger Heights

Fairchild AFB

Spokane WA 99224-

Property No.: 18200420003

Status: Unutilized

Reason: Mission effort

Bldg. 297/Geiger Heights

Fairchild AFB

Spokane WA 99224-

Property No.: 18200420004

Status: Unutilized

Reason: Mission effort

9 Bldgs./Geiger Heights

Fairchild AFB

Spokane WA 99224-

Property No.: 18200420005

Status: Unutilized

Reason: Mission effort

22 Bldgs./Geiger Heights

Fairchild AFB

Spokane WA 99224-

Property No.: 18200420006

Status: Unutilized

Reason: Mission effort

51 Bldgs./Geiger Heights

Fairchild AFB

Spokane WA 99224-

Property No.: 18200420007

Status: Unutilized

Reason: Mission effort

Bldg. 402/Geiger Heights

Fairchild AFB

Spokane WA 99224-

Property No.: 18200420008

Status: Unutilized

Reason: Mission effort

5 Bldgs./Geiger Heights

Fairchild AFB 222, 224, 271, 295, 260

Spokane WA 99224-

Property No.: 18200420009

Status: Unutilized

Reason: Mission effort

5 Bldgs./Geiger Heights

Fairchild AFB 102, 183, 118, 136, 113

Spokane WA 99224-

Property No.: 18200420010

Status: Unutilized

Reason: Mission effort

Army

Alabama

Building

Bldg. 01433

Fort Rucker

Ft. Rucker Co: Dale AL 36362-

Property No.: 21200220098

Status: Excess

Reason: Being utilized

Bldg. 30105

Fort Rucker

Ft. Rucker Co: Dale AL 36362-

Property No.: 21200510052

Status: Excess

Reason: Occupied

Bldg. 40115

Fort Rucker

Ft. Rucker Co: Dale AL 36362-

Property No.: 21200510053

Status: Excess

Reason: Occupied

Bldg. 25303

Fort Rucker

Dale Co: AL 36362-

Property No.: 21200520074

Status: Excess

Reason: Occupied

Bldg. 25304

Fort Rucker

Dale Co: AL 36362-

Property No.: 21200520075

Status: Excess

Reason: Occupied

Arizona

Building

Bldg. 13570

Fort Huachuca

Cochise Co: AZ 85613-7010

Property No.: 21200520076

Status: Excess

Reason: Occupied

Bldg. 22529

Fort Huachuca

Cochise Co: AZ 85613-7010

Property No.: 21200520077

Status: Excess

Reason: Occupied

Bldg. 22541

Fort Huachuca

Cochise Co: AZ 85613-7010

Property No.: 21200520078

Status: Excess

Reason: Occupied

Bldg. 30020

Fort Huachuca

Cochise Co: AZ 85613-7010

Property No.: 21200520079

Status: Excess

Reason: Occupied

Bldg. 30021

Fort Huachuca

Cochise Co: AZ 85613-7010

Property No.: 21200520080

Status: Excess

Reason: Occupied

Bldg. 90311

Fort Huachuca

Cochise Co: AZ 85613-7010

Property No.: 21200520083

Status: Excess

Reason: Occupied

Bldg. 22040

Fort Huachuca

Cochise Co: AZ 85613-

Property No.: 21200540076

Status: Excess

Reason: Occupied

Bldg. 22404

Fort Huachuca

Cochise Co: AZ 85613-

Property No.: 21200540077

Status: Excess

Reason: Occupied

Bldg. 22540

Fort Huachuca

Cochise Co: AZ 85613-

Property No.: 21200540078

Status: Excess

Reason: Occupied

Colorado

Building

Bldg. S6222

Fort Carson

Ft. Carson Co: El Paso CO 80913-

Property No.: 21200340082

Status: Unutilized

Reason: Occupied

Bldg. S6264

Fort Carson

Ft. Carson Co: El Paso CO 80913-

Property No.: 21200340084

Status: Unutilized

Reason: Occupied

Bldg. S6220

Fort Carson

Ft. Carson Co: El Paso CO 80913-

Property No.: 21200420175

Status: Unutilized

Reason: In use

Bldg. S6285

Fort Carson

Ft. Carson Co: El Paso CO 80913-

Property No.: 21200420176

Status: Unutilized

Reason: In use

Bldg. S6287

Fort Carson

Ft. Carson Co: El Paso CO 80913-

Property No.: 21200420177

Status: Unutilized

Reason: In use

Bldg. 06225

Fort Carson

El Paso Co: CO 80913-4001

Property No.: 21200520084

Status: Unutilized

Reason: Occupied

Bldg. 06280

Fort Carson

El Paso Co: CO 80913-4001

Property No.: 21200520085

Status: Unutilized

Reason: Occupied

Bldgs. 06281, 06282, 06283

Fort Carson

El Paso Co: CO 80913-4001

Property No.: 21200520086

Status: Unutilized

Reason: Occupied

Georgia

Building

Bldgs. 00960, 00961, 00963

Fort Benning

Ft. Benning Co: Chattahoochee GA

Property No.: 21200330107

Status: Unutilized

Reason: Occupied

Bldg. T201

Hunter Army Airfield

Garrison Co: Chatham GA 31409-

Property No.: 21200420002

Status: Excess

Reason: In use

Bldg. T202

Hunter Army Airfield

Garrison Co: Chatham GA 31409-

Property No.: 21200420003

Status: Excess

Reason: In use

Bldg. T222

Hunter Army Airfield

Garrison Co: Chatham GA 31409-

Property No.: 21200420004

Status: Excess

Reason: In use

Bldg. P223

Hunter Army Airfield

Garrison Co: Chatham GA 31409-

Property No.: 21200420005

Status: Excess

Reason: In use

Bldg. P224

Hunter Army Airfield

Garrison Co: Chatham GA 31409-

Property No.: 21200420006

Status: Excess

Reason: In use

Bldg. T234

Hunter Army Airfield

Garrison Co: Chatham GA 31409-

Property No.: 21200420008

Status: Excess

Reason: In use

Bldg. T702

Hunter Army Airfield

Garrison Co: Chatham GA 31409-

Property No.: 21200420010

Status: Excess

Reason: In use

Bldg. T703

Hunter Army Airfield

Garrison Co: Chatham GA 31409-

Property No.: 21200420011

Status: Excess

Reason: In use

Bldg. T704

Hunter Army Airfield

Garrison Co: Chatham GA 31409-

Property No.: 21200420012

Status: Excess

Reason: In use

Bldg. P813

Hunter Army Airfield

Garrison Co: Chatham GA 31409-

Property No.: 21200420013

Status: Excess

Reason: In use

Bldgs. S843, S844, S845

Hunter Army Airfield

Garrison Co: Chatham GA 31409-

Property No.: 21200420014

Status: Excess

Reason: In use

Bldg. P925

Hunter Army Airfield

Garrison Co: Chatham GA 31409-

Property No.: 21200420015

Status: Excess

Reason: In use

Bldg. S1227

Hunter Army Airfield

Garrison Co: Chatham GA 31409-

Property No.: 21200420016

Status: Excess

Reason: In use

Bldg. S1251

Hunter Army Airfield

Garrison Co: Chatham GA 31409-

Property No.: 21200420018

Status: Excess

Reason: In use

Bldg. T1254

Hunter Army Airfield

Garrison Co: Chatham GA 31409-

Property No.: 21200420019

Status: Excess

Reason: In use

Bldg. P1275

Hunter Army Airfield

Garrison Co: Chatham GA 31409-

Property No.: 21200420022

Status: Excess

Reason: In use

Bldg. P1276

Hunter Army Airfield

Garrison Co: Chatham GA 31409-

Property No.: 21200420023

Status: Excess

Reason: In use

Bldg. P1277

Hunter Army Airfield

Garrison Co: Chatham GA 31409-

Property No.: 21200420024

Status: Excess

Reason: In use

Bldg. T1412

Hunter Army Airfield

Garrison Co: Chatham GA 31409-

Property No.: 21200420025

Status: Excess

Reason: In use

Bldg. 8658

Hunter Army Airfield

Garrison Co: Chatham GA 31409-

Property No.: 21200420029

Status: Excess

Reason: In use

Bldg. 8659

Hunter Army Airfield

Garrison Co: Chatham GA 31409-

Property No.: 21200420030

Status: Excess

Reason: In use

Bldgs. 8675, 8676

Hunter Army Airfield

Garrison Co: Chatham GA 31409-

Property No.: 21200420031

Status: Excess

Reason: In use

Bldg. 5962-5966

Fort Benning

Ft. Benning Co: Chattachoochee GA 31905-

Property No.: 21200420035

Status: Excess

Reason: In use

Bldgs. 5967-5971

Fort Benning

Ft. Benning Co: Chattachoochee GA 31905-

Property No.: 21200420036

Status: Excess

Reason: In use

Bldgs. 5974-5977

Fort Benning

Ft. Benning Co: Chattachoochee GA 31905-

Property No.: 21200420037

Status: Excess

Reason: In use

Bldg. 5978

Fort Benning

Ft. Benning Co: Chattachoochee GA 31905-

Property No.: 21200420038

Status: Excess

Reason: In use

Bldg. 5981

Fort Benning

Ft. Benning Co: Chattachoochee GA 31905-

Property No.: 21200420039

Status: Excess

Reason: In use

Bldgs. 5984-5988

Fort Benning

Ft. Benning Co: Chattachoochee GA 31905-

Property No.: 21200420040

Status: Excess

Reason: In use

Bldg. 5993

Fort Benning

Ft. Benning Co: Chattachoochee GA 31905-

Property No.: 21200420041

Status: Excess

Reason: In use

Bldg. 5994

Fort Benning

Ft. Benning Co: Chattachoochee GA 31905-

Property No.: 21200420042

Status: Excess

Reason: In use

Bldg. 5995

Fort Benning

Ft. Benning Co: Chattachoochee GA 31905-

Property No.: 21200420043

Status: Excess

Reason: In use

Bldg. 9000

Fort Benning

Ft. Benning Co: Chattachoochee GA 31905-

Property No.: 21200420045

Status: Excess

Reason: In use

Bldgs. 9002, 9005

Fort Benning

Ft. Benning Co: Chattachoochee GA 31905-

Property No.: 21200420046

Status: Excess

Reason: In use

Bldg. 9025

Fort Benning

Ft. Benning Co: Chattachoochee GA 31905-

Property No.: 21200420047

Status: Excess

Reason: In use

Bldg. 9026

Fort Benning

Ft. Benning Co: Chattachoochee GA 31905-

Property No.: 21200420048

Status: Excess

Reason: In use

Bldg. T01

Fort Stewart

Ft. Stewart Co: Liberty GA 31314-

Property No.: 21200420181

Status: Excess

Reason: In use

Bldg. T04

Fort Stewart

Ft. Stewart Co: Liberty GA 31314-

Property No.: 21200420182

Status: Excess

Reason: In use

Bldg. T05

Fort Stewart

Ft. Stewart Co: Liberty GA 31314-

Property No.: 21200420183

Status: Excess

Reason: In use

Bldg. T06

Fort Stewart

Ft. Stewart Co: Liberty GA 31314-

Property No.: 21200420184

Status: Excess

Reason: In use

Bldg. T55

Fort Stewart

Ft. Stewart Co: Liberty GA 31314-

Property No.: 21200420187

Status: Excess

Reason: In use

Bldg. T85

Fort Stewart

Ft. Stewart Co: Liberty GA 31314-

Property No.: 21200420188

Status: Excess

Reason: In use

Bldg. T131

Fort Stewart

Ft. Stewart Co: Liberty GA 31314-

Property No.: 21200420189

Status: Excess

Reason: In use

Bldg. T132

Fort Stewart

Ft. Stewart Co: Liberty GA 31314-

Property No.: 21200420190

Status: Excess

Reason: In use

Bldg. T157

Fort Stewart

Ft. Stewart Co: Liberty GA 31314-

Property No.: 21200420191

Status: Excess

Reason: In use

Bldg. 01002

Fort Stewart

Ft. Stewart Co: Liberty GA 31314-

Property No.: 21200420197

Status: Excess

Reason: In use

Bldg. 01003

Fort Stewart

Ft. Stewart Co: Liberty GA 31314-

Property No.: 21200420198

Status: Excess

Reason: In use

Bldg. T1043

Fort Stewart

Ft. Stewart Co: Liberty GA 31314-

Property No.: 21200420202

Status: Excess

Reason: In use

Bldg. T106

Fort Stewart

Ft. Stewart Co: Liberty GA 31314-

Property No.: 21200420204

Status: Excess

Reason: In use

Bldg. T1050

Fort Stewart

Ft. Stewart Co: Liberty GA 31314-

Property No.: 21200420207

Status: Excess

Reason: In use

Bldg. T1051

Fort Stewart

Ft. Stewart Co: Liberty GA 31314-

Property No.: 21200420208

Status: Excess

Reason: In use

Bldg. T1056

Fort Stewart

Ft. Stewart Co: Liberty GA 31314-

Property No.: 21200420209

Status: Excess

Reason: In use

Bldg. T1057

Fort Stewart

Ft. Stewart Co: Liberty GA 31314-

Property No.: 21200420210

Status: Excess

Reason: In use

Bldg. T1058

Fort Stewart

Ft. Stewart Co: Liberty GA 31314-

Property No.: 21200420211

Status: Excess

Reason: In use

Bldg. 19101

Fort Stewart

Ft. Stewart Co: Liberty GA 31314-

Property No.: 21200420215

Status: Excess

Reason: In use

Bldg. 19102

Fort Stewart

Ft. Stewart Co: Liberty GA 31314-

Property No.: 21200420216

Status: Excess

Reason: In use

Bldg. T19111

Fort Stewart

Ft. Stewart Co: Liberty GA 31314-

Property No.: 21200420217

Status: Excess

Reason: In use

Bldg. 19112

Fort Stewart

Ft. Stewart Co: Liberty GA 31314-

Property No.: 21200420218

Status: Excess

Reason: In use

Bldg. 19113

Fort Stewart

Ft. Stewart Co: Liberty GA 31314-

Property No.: 21200420219

Status: Excess

Reason: In use

Bldg. T19201

Fort Stewart

Ft. Stewart Co: Liberty GA 31314-

Property No.: 21200420220

Status: Excess

Reason: In use

Bldg. 19202

Fort Stewart

Ft. Stewart Co: Liberty GA 31314-

Property No.: 21200420221

Status: Excess

Reason: In use

Bldg. 19204 thru 19207

Fort Stewart

Ft. Stewart Co: Liberty GA 31314-

Property No.: 21200420222

Status: Excess

Reason: In use

Bldgs. 19208 thru 19211

Fort Stewart

Ft. Stewart Co: Liberty GA 31314-

Property No.: 21200420223

Status: Excess

Reason: In use

Bldg. 19212

Fort Stewart

Ft. Stewart Co: Liberty GA 31314-

Property No.: 21200420224

Status: Excess

Reason: In use

Bldg. 19213

Fort Stewart

Ft. Stewart Co: Liberty GA 31314-

Property No.: 21200420225

Status: Excess

Reason: In use

Bldg. 19214

Fort Stewart

Ft. Stewart Co: Liberty GA 31314-

Property No.: 21200420226

Status: Excess

Reason: In use

Bldg. 19215

Fort Stewart

Ft. Stewart Co: Liberty GA 31314-

Property No.: 21200420227

Status: Excess

Reason: In use

Bldg. 19216

Fort Stewart

Ft. Stewart Co: Liberty GA 31314-

Property No.: 21200420228

Status: Excess

Reason: In use

Bldg. 19217

Fort Stewart

Ft. Stewart Co: Liberty GA 31314-

Property No.: 21200420229

Status: Excess

Reason: In use

Bldg. 19218

Fort Stewart

Ft. Stewart Co: Liberty GA 31314-

Property No.: 21200420230

Status: Excess

Reason: In use

Bldgs. 19219, 19220

Fort Stewart

Ft. Stewart Co: Liberty GA 31314-

Property No.: 21200420231

Status: Excess

Reason: In use

Bldg. 19223

Fort Stewart

Ft. Stewart Co: Liberty GA 31314-

Property No.: 21200420232

Status: Excess

Reason: In use

Bldg. 19225

Fort Stewart

Ft. Stewart Co: Liberty GA 31314-

Property No.: 21200420233

Status: Excess

Reason: In use

Bldg. 19226

Fort Stewart

Ft. Stewart Co: Liberty GA 31314-

Property No.: 21200420234

Status: Excess

Reason: In use

Bldg. T19228

Fort Stewart

Ft. Stewart Co: Liberty GA 31314-

Property No.: 21200420235

Status: Excess

Reason: In use

Bldg. 19229

Fort Stewart

Ft. Stewart Co: Liberty GA 31314-

Property No.: 21200420236

Status: Excess

Reason: In use

Bldg. 19232

Fort Stewart

Ft. Stewart Co: Liberty GA 31314-

Property No.: 21200420237

Status: Excess

Reason: In use

Bldg. 19233

Fort Stewart

Ft. Stewart Co: Liberty GA 31314-

Property No.: 21200420238

Status: Excess

Reason: In use

Bldg. 19236

Fort Stewart

Ft. Stewart Co: Liberty GA 31314-

Property No.: 21200420239

Status: Excess

Reason: In use

Bldg. 19238

Fort Stewart

Ft. Stewart Co: Liberty GA 31314-

Property No.: 21200420240

Status: Excess

Reason: In use

Bldg. 01674

Fort Benning

Ft. Benning Co: Chattachoochee GA 31905-

Property No.: 21200510056

Status: Unutilized

Reason: Occupied

Bldg. 01675

Fort Benning

Ft. Benning Co: Chattachoochee GA 31905-

Property No.: 21200510057

Status: Unutilized

Reason: Occupied

Bldg. 01676

Fort Benning

Ft. Benning Co: Chattachoochee GA 31905-

Property No.: 21200510058

Status: Unutilized

Reason: Occupied

Bldg. 01677

Fort Benning

Ft. Benning Co: GA 31905-

Property No.: 21200510059

Status: Unutilized

Reason: Occupied

Bldg. 01678

Fort Benning

Ft. Benning Co: Chattachoochee GA 31905-

Property No.: 21200510060

Status: Unutilized

Reason: Occupied

Bldg. 05887

Fort Benning

Ft. Benning Co: Chattachoochee GA 31905-

Property No.: 21200510061

Status: Unutilized

Reason: Occupied

Bldg. 01305

Hunter Army Airfield

Chatham Co: GA 31409-

Property No.: 21200510063

Status: Excess

Reason: Historic

Bldg. 00051

Fort Stewart

Liberty Co: GA 31314-

Property No.: 21200520087

Status: Excess

Reason: Occupied

Bldg. 00052

Fort Stewart

Liberty Co: GA 31314-

Property No.: 21200520088

Status: Excess

Reason: Occupied

Bldg. 00053

Fort Stewart

Liberty Co: GA 31314-

Property No.: 21200520089

Status: Excess

Reason: Occupied

Bldg. 00054

Fort Stewart

Liberty Co: GA 31314-

Property No.: 21200520090

Status: Excess

Reason: Occupied

Bldg. 00451

Fort Stewart

Liberty Co: GA 31314-

Property No.: 21200520091

Status: Excess

Reason: Occupied

Bldg. 00106

Fort Benning

Chattachoochee Co: GA 31905-

Property No.: 21200520092

Status: Unutilized

Reason: Occupied

Bldg. 02023

Fort Benning

Chattachoochee Co: GA 31905-

Property No.: 21200520093

Status: Unutilized

Reason: Occupied

Bldg. 2750

Fort Benning

Chattachoochee Co: GA 31905-

Property No.: 21200520094

Status: Unutilized

Reason: Occupied

Bldg. 2819

Fort Benning

Chattachoochee Co: GA 31905-

Property No.: 21200520095

Status: Unutilized

Reason: Occupied

Bldg. 2843

Fort Benning

Chattachoochee Co: GA 31905-

Property No.: 21200520096

Status: Unutilized

Reason: Occupied

Bldg. 9013

Fort Benning

Chattachoochee Co: GA 31905-

Property No.: 21200520099

Status: Unutilized

Reason: Occupied

5 Bldgs.

Fort Benning 9014, 9015, 9018, 9022, 9053

Chattachoochee Co: GA 31905-

Property No.: 21200520100

Status: Unutilized

Reason: Occupied

Bldg. 9050

Fort Benning

Chattachoochee Co: GA 31905-

Property No.: 21200520104

Status: Unutilized

Reason: Occupied

Bldg. 9051

Fort Benning

Chattachoochee Co: GA 31905-

Property No.: 21200520105

Status: Unutilized

Reason: Occupied

Bldg. 09075

Fort Benning

Chattachoochee Co: GA 31905-

Property No.: 21200520106

Status: Unutilized

Reason: Occupied

Bldg. 9234

Fort Benning

Chattachoochee Co: GA 31905-

Property No.: 21200520109

Status: Unutilized

Reason: Occupied

Bldgs. 10039, 10041

Fort Benning

Muscogee Co: GA 31905-

Property No.: 21200520110

Status: Unutilized

Reason: Occupied

Bldg. 11326

Fort Benning

Muscogee Co: GA 31905-

Property No.: 21200520112

Status: Unutilized

Reason: Occupied

Indiana

Building

Bldg. 301

Fort Benjamin Harrison

Indianapolis Co: Marion IN 45216-

Property No.: 21200320098

Status: Unutilized

Reason: Occupied

Bldg. 302

Fort Benjamin Harrison

Indianapolis Co: Marion IN 46216-

Property No.: 21200320099

Status: Unutilized

Reason: Occupied

Bldg. 303

Fort Benjamin Harrison

Indianapolis Co: Marion IN 46216-

Property No.: 21200320100

Status: Unutilized

Reason: Occupied

Bldg. 304

Fort Benjamin Harrison

Indianapolis Co: Marion IN 46216-

Property No.: 21200320101

Status: Unutilized

Reason: Occupied

Bldg. 334

Fort Benjamin Harrison

Indianapolis Co: Marion IN 46216-

Property No.: 21200320102

Status: Unutilized

Reason: Occupied

Bldg. 337

Fort Benjamin Harrison

Indianapolis Co: Marion IN 46216-

Property No.: 21200320103

Status: Unutilized

Reason: Occupied

Louisiana

Building

Bldg. T401

Fort Polk

Ft. Polk Co: LA 71459-

Property No.: 21200540084

Status: Unutilized

Reason: Occupied

Bldgs. T406, T407, T411

Fort Polk

Ft. Polk Co: LA 71459-

Property No.: 21200540085

Status: Unutilized

Reason: Occupied

Bldg. T412

Fort Polk

Ft. Polk Co: LA 71459-

Property No.: 21200540086

Status: Unutilized

Reason: Occupied

Bldgs. T414, T421

Fort Polk

Ft. Polk Co: LA 71459-

Property No.: 21200540087

Status: Unutilized

Reason: Occupied

Maryland

Building

Bldg. 2282C

Fort George G. Meade

Fort Meade Co: Anne Arundel MD 20755-

Property No.: 21200230059

Status: Unutilized

Reason: Secured

Bldg. 8608

Fort George G. Meade

Ft. Meade MD 20755-5115

Property No.: 21200410099

Status: Unutilized

Reason: Occupied

Bldg. 8612

Fort George G. Meade

Ft. Meade MD 20755-5115

Property No.: 21200410101

Status: Unutilized

Reason: Occupied

Bldg. 0001A

Federal Support Center

Olney Co: Montgomery MD 20882-

Property No.: 21200520114

Status: Unutilized

Reason: Occupied

Bldg. 0001C

Federal Support Center

Olney Co: Montgomery MD 20882-

Property No.: 21200520115

Status: Unutilized

Reason: Occupied

Bldgs. 00032, 00H14, 00H24

Federal Support Center

Olney Co: Montgomery MD 20882-

Property No.: 21200520116

Status: Unutilized

Reason: Occupied

Bldgs. 00034, 00H016

Federal Support Center

Olney Co: Montgomery MD 20882-

Property No.: 21200520117

Status: Unutilized

Reason: Occupied

Bldgs. 00H10, 00H12

Federal Support Center

Olney Co: Montgomery MD 20882-

Property No.: 21200520118

Status: Unutilized

Reason: Occupied

Michigan

Building

Bldg. 00001

Sheridan Hall USARC 501 Euclid Avenue

Helena Co: Lewis & Clark MI 59601-2865

Property No.: 21200510066

Status: Unutilized

Reason: Federal interest

Missouri

Building

Bldg. 1230

Fort Leonard Wood

Ft. Leonard Wood Co: Pulaski MO 65743-8944

Property No.: 21200340087

Status: Unutilized

Reason: Occupied

Bldg. 1621

Fort Leonard Wood

Ft. Leonard Wood Co: Pulaski MO 65743-8944

Property No.: 21200340088

Status: Unutilized

Reason: Occupied

Bldg. 5760

Fort Leonard Wood

Ft. Leonard Wood Co: Pulaski MO 65743-8944

Property No.: 21200410102

Status: Unutilized

Reason: Occupied

Bldg. 5762

Fort Leonard Wood

Ft. Leonard Wood Co: Pulaski MO 65743-8944

Property No.: 21200410103

Status: Unutilized

Reason: Occupied

Bldg. 5763

Fort Leonard Wood

Ft. Leonard Wood Co: Pulaski MO 65743-8944

Property No.: 21200410104

Status: Unutilized

Reason: Occupied

Bldg. 5765

Fort Leonard Wood

Ft. Leonard Wood Co: Pulaski MO 65743-8944

Property No.: 21200410105

Status: Unutilized

Reason: Occupied

Bldg. 5760

Fort Leonard Wood

Ft. Leonard Wood Co: Pulaski MO 65743-8944

Property No.: 21200420059

Status: Unutilized

Reason: In use

Bldg. 5762

Fort Leonard Wood

Ft. Leonard Wood Co: Pulaski MO 65743-8944

Property No.: 21200420060

Status: Unutilized

Reason: In use

Bldg. 5763

Fort Leonard Wood

Ft. Leonard Wood Co: Pulaski MO 65743-8944

Property No.: 21200420061

Status: Unutilized

Reason: In use

Bldg. 5765

Fort Leonard Wood

Ft. Leonard Wood Co: Pulaski MO 65743-8944

Property No.: 21200420062

Status: Unutilized

Reason: In use

Bldg. 00467

Fort Leonard Wood

Ft. Leonard Wood Co: Pulaski MO 65743-

Property No.: 21200530085

Status: Unutilized

Reason: Occupied

New York

Building

Bldgs. 1511-1518

U.S. Military Academy

Training Area

Highlands Co: Orange NY 10996-

Property No.: 21200320160

Status: Unutilized

Reason: Occupied

Bldgs. 1523-1526

U.S. Military Academy

Training Area

Highlands Co: Orange NY 10996-

Property No.: 21200320161

Status: Unutilized

Reason: Occupied

Bldgs. 1704-1705, 1721-1722

U.S. Military Academy

Training Area

Highlands Co: Orange NY 10996-

Property No.: 21200320162

Status: Unutilized

Reason: Occupied

Bldg. 1723

U.S. Military Academy

Training Area

Highlands Co: Orange NY 10996-

Property No.: 21200320163

Status: Unutilized

Reason: Occupied

Bldgs. 1706-1709

U.S. Military Academy

Training Area

Highlands Co: Orange NY 10996-

Property No.: 21200320164

Status: Unutilized

Reason: Occupied

Bldgs. 1731-1735

U.S. Military Academy

Training Area

Highlands Co: Orange NY 10996-

Property No.: 21200320165

Status: Unutilized

Reason: Occupied

North Carolina

Building

Bldgs. A2245, A2345

Fort Bragg

Ft. Bragg Co: Cumberland NC 28310-

Property No.: 21200240084

Status: Excess

Reason: Mission use

Bldg. N4116

Fort Bragg

Ft. Bragg Co: Cumberland NC 28310-

Property No.: 21200240087

Status: Excess

Reason: Mission use

Oklahoma

Building

282 Bldgs.

Fort Sill

Lawton Co: Comanche OK 73503-

Property No.: 21200530086

Status: Unutilized

Reason: Occupied

43 Garages

Fort Sill

Lawton Co: Comanche OK 73503-

Property No.: 21200530087

Status: Unutilized

Reason: Occupied

Texas

Building

Bldgs. 4219, 4227

Fort Hood

Ft. Hood Co: Bell TX 76544-

Property No.: 21200220139

Status: Unutilized

Reason: Admin use

Bldgs. 4229, 4230, 4231

Fort Hood

Ft. Hood Co: Bell TX 76544-

Property No.: 21200220140

Status: Unutilized

Reason: Admin use

Bldgs. 4244, 4246

Fort Hood

Ft. Hood Co: Bell TX 76544-

Property No.: 21200220141

Status: Unutilized

Reason: Admin use

Bldgs. 4260, 4261, 4262

Fort Hood

Ft. Hood Co: Bell TX 76544-

Property No.: 21200220142

Status: Unutilized

Reason: Admin use

Bldgs. 00245-00247

Fort Hood

Ft. Hood Co: Bell TX 76544-

Property No.: 21200430069

Status: Unutilized

Reason: Mission purposes

Bldgs. 04223-04226

Fort Hood

Bell Co: TX 76544-

Property No.: 21200440088

Status: Excess

Reason: Occupied

Bldg. 04335

Fort Hood

Bell Co: TX 76544-

Property No.: 21200440090

Status: Excess

Reason: Occupied

Bldg. 04465

Fort Hood

Bell Co: TX 76544-

Property No.: 21200440094

Status: Excess

Reason: Occupied

Bldg. 04468

Fort Hood

Bell Co: TX 76544-

Property No.: 21200440096

Status: Excess

Reason: Occupied

Bldg. 04473

Fort Hood

Bell Co: TX 76544-

Property No.: 21200440097

Status: Excess

Reason: Occupied

Bldgs. 04475-04476

Fort Hood

Bell Co: TX 76544-

Property No.: 21200440098

Status: Excess

Reason: Occupied

Bldg. 04477

Fort Hood

Bell Co: TX 76544-

Property No.: 21200440099

Status: Excess

Reason: Occupied

Bldg. 07002

Fort Hood

Bell Co: TX 76544-

Property No.: 21200440100

Status: Excess

Reason: Occupied

Bldg. 7002A

Fort Hood

Bell Co: TX 76544-

Property No.: 21200440101

Status: Excess

Reason: Occupied

Bldg. 57001

Fort Hood

Bell Co: TX 76544-

Property No.: 21200440105

Status: Excess

Reason: Occupied

Bldgs. 90053-90054

Fort Hood

Bell Co: TX 76544-

Property No.: 21200440107

Status: Excess

Reason: Occupied

Virginia

Building

Bldg. T2827

Fort Pickett

Blackstone Co: Nottoway VA 23824-

Property No.: 21200320172

Status: Unutilized

Reason: Occupied

Bldg. T2841

Fort Pickett

Blackstone Co: Nottoway VA 23824-

Property No.: 21200320173

Status: Unutilized

Reason: Occupied

Washington

Building

Bldg. 05904

Fort Lewis

Ft. Lewis Co: Pierce WA 98433-9500

Property No.: 21200240092

Status: Excess

Reason: Mission use

Wisconsin

Building

Bldg. 01352

Fort McCoy

Monroe Co: WI 54656-

Property No.: 21200530088

Status: Excess

Reason: Occupied

Bldg. 01355

Fort McCoy

Monroe Co: WI 54656-

Property No.: 21200530089

Status: Excess

Reason: Occupied

Bldg. 01363

Fort McCoy

Monroe Co: WI 54656-

Property No.: 21200530090

Status: Excess

Reason: Occupied

Bldgs. 01459-01462

Fort McCoy

Monroe Co: WI 54656-

Property No.: 21200530091

Status: Excess

Reason: Occupied

Bldgs. 01464-01466

Fort McCoy

Monroe Co: WI 54656-

Property No.: 21200530092

Status: Excess

Reason: Occupied

COE

Illinois

Building

Bldg. 7

Ohio River Locks & Dam No. 53

Grand Chain Co: Pulaski IL 62941-9801

Property No.: 31199010001

Status: Unutilized

Reason: Project integrity and security; safety liability

Bldg. 6

Ohio River Locks & Dam No. 53

Grand Chain Co: Pulaski IL 62941-9801

Property No.: 31199010002

Status: Unutilized

Reason: Project integrity and security; safety liability

Bldg. 5

Ohio River Locks & Dam No. 53

Grand Chain Co: Pulaski IL 62941-9801

Property No.: 31199010003

Status: Unutilized

Reason: Project integrity and security; safety liability

Bldg. 4

Ohio River Locks & Dam No. 53

Grand Chain Co: Pulaski IL 62941-9801

Property No.: 31199010004

Status: Unutilized

Reason: Project integrity and security; safety liability

Bldg. 3

Ohio River Locks & Dam No. 53

Grand Chain Co: Pulaski IL 62941-9801

Property No.: 31199010005

Status: Unutilized

Reason: Project integrity and security; safety liability

Bldg. 2

Ohio River Locks & Dam No. 53

Grand Chain Co: Pulaski IL 62941-9801

Property No.: 31199010006

Status: Unutilized

Reason: Project integrity and security; safety liability

Bldg. 1

Ohio River Locks & Dam No. 53

Grand Chain Co: Pulaski IL 62941-9801

Property No.: 31199010007

Status: Unutilized

Reason: Project integrity and security; safety liability

Land

Lake Shelbyville

Shelbyville Co: Shelby & Moultrie IL 62565-9804

Property No.: 31199240004

Status: Unutilized

Reason: Disposal action initiated

Ohio

Building

Bldg.—Berlin Lake

7400 Bedell Road

Berlin Center Co: Mahoning OH 44401-9797

Property No.: 31199640001

Status: Unutilized

Reason: Utilized as construction office

Pennsylvania

Building

Tract 403A

Grays Landing Lock & Dam Project

Greensboro Co: Greene PA 15338-

Property No.: 31199430021

Status: Unutilized

Reason: To be transferred to Borough

Tract 403B

Grays Landing Lock & Dam Project

Greensboro Co: Greene PA 15338-

Property No.: 31199430022

Status: Unutilized

Reason: To be transferred to Borough

Tract 403C

Grays Landing Lock & Dam Project

Greensboro Co: Greene PA 15338-

Property No.: 31199430023

Status: Unutilized

Reason: To be transferred to Borough

Land

East Branch Clarion River Lake

Wilcox Co: Elk PA

Property No.: 31199011012

Status: Underutilized

Reason: Location near damsite

Dashields Locks and Dam

(Glenwillard, PA)

Crescent Twp. Co: Allegheny PA 15046-0475

Property No.: 31199210009

Status: Unutilized

Reason: Leased to Township

ENERGY

Idaho

Building

Bldg. CFA-613

Central Facilities Area

Idaho National Engineering Lab

Scoville Co: Butte ID 83415-

Property No.: 41199630001

Status: Unutilized

Reason: Historical issues

GSA

Maryland

Building

Tower Site D

Fort Detrick

Damascus Co: Howard MD 20872-

Property No.: 54200540020

Status: Excess

GSA Number : 4-D-MD-0620

Reason: Federal interest

Michigan

Land

IOM Site

Chesterfield Road

Chesterfield Co: Macomb MI

Property No.: 54200340008

Status: Excess

GSA Number : 1-D-MI-0603F

Reason: Public body interest

New York

Building

Social Sec. Admin. Bldg.

517 N. Barry St.

Olean NY 10278-0004

Property No.: 54200230009

Status: Excess

GSA Number: 1-G-NY-0895

Reason: Environmental questions

NAVY

Hawaii

Building

Bldg. 1145

Naval Air Station

Barbers Point Co: Honolulu HI 96707-

Property No.: 77200510026

Status: Unutilized

Reason: Mission use

VA

Iowa

Land

38 acres

VA Medical Center

1515 West Pleasant St.

Knoxville Co: Marion IA 50138-

Property No.: 97199740001

Status: Unutilized

Reason: Enhanced-Use Legislation potential

Michigan

Land

VA Medical Center

5500 Armstrong Road

Battle Creek Co: Calhoun MI 49016-

Property No.: 97199010015

Status: Underutilized

Reason: Being used for patient and program activities

Montana

Building

VA MT Healthcare

210 S. Winchester

Miles City Co: Custer MT 59301-

Property No.: 97200030001

Status: Underutilized

Reason: Transfer to Custer County

New York

Land

VA Medical Center

Fort Hill Avenue

Canandaigua Co: Ontario NY 14424-

Property No.: 97199010017

Status: Underutilized

Reason: Portion leased; portion landlocked

Ohio

Building

Bldg. 116

VA Medical Center

Dayton Co: Montgomery OH 45428-

Property No.: 97199920002

Status: Unutilized

Reason: Preexisting agreement

Pennsylvania

Land

VA Medical Center

New Castle Road

Butler Co: Butler PA 16001-

Property No.: 97199010016

Status: Underutilized

Reason: Used as natural drainage for facility property

Land No. 645

VA. Medical Center

Highland Drive

Pittsburgh Co: Allegheny PA 15206-

Property No.: 97199010080

Status: Unutilized

Reason: Property is essential to security and safety of patients

Land—34.16 acres

VA Medical Center

1400 Black Horse Hill Road

Coatesville Co: Chester PA 19320-

Property No.: 97199340001

Status: Underutilized

Reason: Needed for mission related functions

Wisconsin

Building

Bldg. 2

VA Medical Center

5000 West National Ave.

Milwaukee WI 53295-

Property No.: 97199830002

Status: Underutilized

Reason: Subject of leasing negotiations

[FR Doc. 06-1120 Filed 2-9-06; 8:45 am]

BILLING CODE 4210-67-P